ENVIRONMENTAL PROTECTION AGENCY

40 CFR Part 52

[EPA-R05-OAR-2025-0059; FRL-12610-01-R5]

Air Plan Approval; Wisconsin; Revised Format for Materials Incorporated by Reference

AGENCY: Environmental Protection Agency.

ACTION: Final rule; administrative change.

SUMMARY: The Environmental Protection Agency (EPA) is revising the format for materials that are made part of the Wisconsin State Implementation Plan (SIP) through the process of incorporation by reference (IBR). The regulations and materials affected by this format change have all been previously submitted by Wisconsin and approved by EPA as part of the SIP.

DATES: This action is effective on April 22, 2025.

ADDRESSES: The SIP materials for which incorporation by reference into 40 CFR part 52 is finalized through this action are available for inspection at the following locations: Environmental Protection Agency, Region 5, 77 West Jackson Boulevard, Chicago, Illinois 60604 and www.regulations.gov. To view the materials at the Region 5 Office, EPA requests that you email the contact listed in the FOR FURTHER INFORMATION CONTACT section to schedule your inspection. The Regional Office's official hours of business are Monday through Friday 8:30 a.m. to 4:30 p.m., excluding Federal holidays.

FOR FURTHER INFORMATION CONTACT: Christos Panos, Air and Radiation Division (AR-18J), Environmental Protection Agency, Region 5, 77 West Jackson Boulevard, Chicago, Illinois 60604, (312) 353-8328, panos.christos@epa.gov.

SUPPLEMENTARY INFORMATION: Throughout this document, wherever “we,” “us” or “our” is used, it is intended to refer to EPA.

I. Background

A. Description of a SIP

Each state has a SIP containing, among other things, the control measures and strategies used to attain and maintain the national ambient air quality standards (NAAQS). The SIP is extensive, containing such elements as air pollution control regulations, emission inventories, monitoring networks, attainment demonstrations, and enforcement mechanisms.

B. How EPA Enforces SIPs

Each state must formally adopt the control measures and strategies to attain and maintain the NAAQS after the public has had an opportunity to comment on them and then the state must submit the proposed SIP revisions to EPA. Once these control measures and strategies are approved by EPA through notice and comment rulemaking, EPA uses the IBR process to make them part of the federally approved SIP. IBR is a method of incorporating material into EPA regulations in the Code of Federal Regulations (CFR) by referencing the original document(s) without publishing the full text of the material. In this case, the SIP rules are identified in part 52 (Approval and Promulgation of Implementation Plans), title 40 of the CFR (40 CFR part 52). These rules are approved by EPA with a specific effective date, but are not reproduced in their entirety in 40 CFR part 52. This format allows both EPA and the public to identify which regulations are contained in a given SIP and to help determine whether the state is enforcing those regulations. This format also assists EPA and the public in taking enforcement action, should a state not enforce its SIP-approved regulations.

C. How the State and EPA Update the SIP

The SIP is periodically revised as necessary to address the unique air pollution problems in the state. Therefore, EPA must periodically take action on state SIP submissions containing new and/or revised regulations and other materials; if approved, they become part of the SIP. On May 22, 1997 (62 FR 27968), EPA revised the formatting procedures of 40 CFR part 52 for incorporating by reference federally approved SIP revisions. These procedures include: (1) A revised SIP document for each state that would use the IBR process under the provisions of 1 CFR part 51; (2) a revised mechanism for announcing EPA approval of revisions to an applicable SIP and updating both the document that has gone through the IBR process and the CFR; and (3) a revised format of the “Identification of plan” sections for each applicable subpart in 40 CFR part 52 to reflect these revised IBR procedures. The description of the revised SIP document, IBR procedures, and “Identification of plan” format are discussed in further detail in the May 22, 1997, Federal Register document.

D. How EPA Compiles the SIPs

The federally-approved regulations, source-specific requirements, and nonregulatory provisions (entirely or portions of) submitted by each state agency have been compiled by EPA into a “SIP compilation.” The SIP compilation contains the updated regulations, source-specific requirements, and nonregulatory provisions approved by EPA through previous rulemaking actions in the Federal Register.

E. How EPA Organizes the SIP Compilation

Each SIP compilation contains three parts. Part one contains the regulations, part two contains the source-specific requirements, and part three contains nonregulatory provisions. Each state's SIP compilation contains a table for each of the three parts that identifies each SIP-approved regulation, source-specific requirement, and nonregulatory provision. In this action, EPA is publishing the SIP compilation tables that summarize the applicable SIP requirements for Wisconsin and that will be codified at 40 CFR 52.2570. The effective dates in the table indicate the date of the most recent revision to an approved regulation. EPA Regional Offices have the primary responsibility for updating the state SIP compilations and ensuring their accuracy.

F. Where You Can Find a Copy of the SIP Compilation

EPA Region 5 has developed and will maintain the SIP compilation for Wisconsin. A copy of the full text of Wisconsin's regulatory and source-specific SIP compilation will also be maintained at the National Archives and Records Administration (NARA).

G. The Format of the New Identification of Plan Section

In order to better serve the public, EPA revised the organization of the section titled “Identification of plan” at 40 CFR 52.2570 and included additional information to clarify the enforceable elements of the SIP. The revised format does not affect Federal enforceability of the SIP and is consistent with the requirements of section 110(h)(1) of the Clean Air Act (CAA) concerning comprehensive SIP publication.

The revised “Identification of plan” section contains five subsections:

1. Purpose and scope

2. Incorporation by reference

3. EPA approved regulations

4. EPA approved source specific requirements

5. EPA approved nonregulatory and quasi-regulatory provisions.

H. When a SIP Revision Becomes Federally Enforceable

All new requirements and revisions to the applicable SIP become federally enforceable as of the effective date of the revisions to paragraph (c), (d), or (e) of the applicable “Identification of plan” section found in each subpart of 40 CFR part 52.

I. The Historical Record of SIP Revision Approvals

To facilitate enforcement of previously approved SIP provisions and provide a smooth transition to the new SIP processing system, EPA will retain the original “Identification of plan” section, previously appearing in the CFR as the first or second section of part 52 for each state subpart. The original Identification of plan section will be moved to § 52.2594 of part 52 for Wisconsin.

II. What EPA Is Doing in This Action

We are revising the format of 40 CFR part 52 “Identification of plan” section for Wisconsin regarding incorporation by reference, by adding § 52.2570(c), (d), and (e), to be consistent with the format described above and in 62 FR 27968 (May 22, 1997). We are adding § 52.2570(b)(1) to further clarify that all SIP revisions listed in § 52.2570(c) and (d), regardless of inclusion in the most recent “update to the SIP compilation,” are federally enforceable under sections 110 and 113 of the CAA as of the effective date of the final rulemaking in which EPA approved the SIP revision. We are adding § 52.2570(b)(2) to certify that the materials provided by EPA at the addresses in paragraph (b)(3) are an exact duplicate of the official state rules/regulations. We are adding § 52.2570(b)(3) to update address and contact information.

This action constitutes a recordkeeping and organizational exercise to ensure that all revisions to the state programs that have occurred are accurately reflected in 40 CFR part 52. State SIP revisions are controlled by EPA regulations at 40 CFR part 51.

EPA has determined that this action falls under the “good cause” exemption in sections 553(b)(3)(B) and 553(d)(3) of the Administrative Procedure Act (APA) which, upon finding “good cause,” authorizes agencies to dispense with public participation and allows an agency to make a rule effective immediately, thereby avoiding the 30-day delayed effective date otherwise provided for in the APA. This action simply reformats and codifies provisions which are already in effect as a matter of law in Federal and approved state programs. Under section 553(b)(3)(B) of the APA, an agency may find good cause where notice and public procedure are “impractical, unnecessary, or contrary to the public interest.” Public comment is unnecessary for this action because EPA is merely reformatting and codifying existing law. Immediate notice in the CFR benefits the public by removing outdated citations and making the IBR format clearer and more user-friendly.

III. Incorporation by Reference

In this rule, EPA is finalizing regulatory text that includes incorporation by reference. In accordance with requirements of 1 CFR 51.5, EPA is finalizing the incorporation by reference of regulations promulgated by Wisconsin, previously approved by EPA and federally effective before December 31, 2024, contained in 40 CFR 52.2570(c) (EPA approved regulations) and (d) (EPA approved source-specific requirements), described in section II. of this preamble. EPA has made, and will continue to make, these documents generally available through www.regulations.gov and at the EPA Region 5 office (please contact the person identified in the FOR FURTHER INFORMATION CONTACT section of this preamble for more information).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely addresses administrative requirements related to previously approved state law found to meet Federal requirements and does not impose additional requirements beyond those previously imposed by state law. For that reason, this action:

• Is not a significant regulatory action subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it is an administrative action related to state program approval;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

EPA has also determined that the provisions of section 307(b)(1) of the CAA pertaining to petitions for judicial review are not applicable to this action. Prior EPA rulemaking actions for each individual component of the Wisconsin SIP compilations afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon oxides, Incorporation by reference, Intergovernmental relations, Lead, Nitrogen oxides, Ozone, Particulate matter, Reporting and recordkeeping requirements, Sulfur dioxide, Volatile organic compounds.

Dated: April 7, 2025.
Cheryl Newton,
Acting Regional Administrator, Region 5.

Part 52 of chapter I, title 40 of the Code of Federal Regulations, is amended as follows:

PART 52—APROVAL AND PROMULGATION OF IMPLEMENTION PLANS

1. The authority citation for part 52 continues to read as follows:

Authority: 42 U.S.C. 7401 et seq.

Subpart YY—Wisconsin

§ 52.2570 [Redesignated as § 52.2594]

2. Section 52.2570 is redesignated as § 52.2594.

3. A new § 52.2570 is added to read as follows:

§ 52.2570 Identification of plan.

(a) Purpose and scope. This section sets forth the applicable State implementation plan for the State of Wisconsin under section 110 of the CAA, 42 U.S.C. 7401-7671q, and 40 CFR part 51 to meet national ambient air quality standards.

(b) Incorporation by reference. (1) Material listed in paragraphs (c) and (d) of this section with an EPA approval date prior to December 31, 2024, was approved for incorporation by reference by the Director of the Federal Register n accordance with 5 U.S.C. 552(a) and 1 CFR part 51. Material is incorporated as it exists on the date of the approval and notification of any change in the material will be published in the Federal Register. Entries in paragraphs (c) and (d) with EPA approval dates after December 31, 2024, will be incorporated by reference in the next update to the SIP compilation.

(2) EPA Region 5 certifies that the rules/regulations provided by EPA in the SIP compilation at the addresses in paragraph (b)(3) of this section are an exact duplicate of the officially promulgated State rules/regulations which have been approved as part of the State implementation plan as of the dates referenced in paragraph (b)(1) of this section.

(3) Copies of the materials incorporated by reference may be inspected at the Region 5 EPA Office at 77 West Jackson Boulevard, Chicago, IL 60604. To obtain the material, please call the EPA Region 5 Office. You may also inspect the material with an EPA approval date prior to December 31, 2024, for Wisconsin at the National Archives and Records Administration (NARA). For information on the availability of this material at NARA, visit www.archives.gov/federal-register/cfr/ibr-locations or email fr.inspection@nara.gov.

(c) EPA approved regulations.

Table 1 to Paragraph (c)—EPA-Approved Wisconsin Regulations and Statutes
Citation | Title | WI effective date | WI register | EPA approval | Comments
NR 30—Forest Fire Control
NR 30.03 | Burning regulations, extensive forest fire control area | 1/1/1996 | Dec 1995, No. 480 | 5/27/1999, 64 FR 28745 | Only (2)(t).
NR 30.04 | Burning regulations, intensive fire control area | 1/1/1996 | Dec 1995, No. 480 | 5/27/1999, 64 FR 28745 | Only (2)(f).
NR 400—Air Pollution Control Definitions
NR 400.02 | Definitions | 8/1/2022 | July 2022, No. 799 | 10/29/2024, 89 FR 85857 | All except (19m), and (27m).
NR 400.03 | Units and abbreviations | 4/1/2024 | March 2024, No. 819 | 11/22/2024, 89 FR 92600 | All except (1)(a) through (cm), (dm) through (m), and (4)(js).
NR 401—Nonattainment Areas
NR 401.04 | Compliance required | 1/1/1996 | Dec 1995, No. 480 | 5/27/1999, 64 FR 28745 |
NR 404—Ambient Air Quality
NR 404.02 | Definitions | 1/1/1989 | Dec 1988, No. 396 | 6/2/1993, 58 FR 34528 | Only (8).
NR 404.04 | Ambient air quality standards | 1/1/1996 | Dec 1995, No. 480 | 5/27/1999, 64 FR 28745 | Only (2)(a)1. and 2. and (6).
NR 404.04 | Ambient air quality standards | 10/1/2009 | Sep 2009, No. 645 | 9/17/2018, 83 FR 46882 | Only (8) and (9).
NR 404.04 | Ambient air quality standards | 3/1/2022 | Feb 2022, No. 794 | 2/1/2023, 88 FR 6632 | Only (5)(d) and Note.
NR 404.05 | Ambient air increments | 1/1/1996 | Dec 1995, No. 480 | 5/27/1999, 64 FR 28745 | Only (2)(a), (3)(a) and (4)(a).
NR 404.05 | Ambient air increments | 8/1/2016 | Jul 2016, No. 727 | 7/7/2017, 82 FR 9515 | Only (2)(intro.), (2)(am), (3)(intro.), (3)(am), (4)(intro.) and (4)(am).
NR 404.06 | Measurement of ambient air quality | 1/1/1996 | Dec 1995, No. 480 | 5/27/1999, 64 FR 28745 | Only (1)(a) and (4)(b).
NR 405—Prevention of Significant Deterioration
NR 405.01 | Applicability; purpose | 7/1/2007 | June 2007, No. 618 | 12/17/2008, 73 FR 76558 |
NR 405.02 | Definitions | 8/1/2016 | July 2016, No. 727 | 2/7/2017, 82 FR 9515 | Only intro, (1), (2)(intro.), (2)(a), (2m), (3), (4), (7), (8), (11), (11c), (11e), (11j), (12), (20m), (21), (21m), (22) [except (a)3.], (22m), (24), (24j), (25b), (25d), (25e), (25f), (25g)(b) and (d), (25i), (25k), (25m), (25s)(intro.) and (a), (27)(a)intro, 1. through 7. and 9. through 13., and (c), (28), and, (28m).
NR 405.025 | Methods for calculation of increases in actual emissions | 7/1/2007 | June 2007, No. 618 | 12/17/2008, 73 FR 76558 |
NR 405.04 | Exclusions from increment consumption | 1/1/1996 | Dec 1995, No. 480 | 5/27/1999, 64 FR 28745 | Only (1)(intro), (1)(a), (1)(e), (4)(intro.) and (4)(a).
NR 405.05 | Redesignation | 1/1/1996 | Dec 1995, No. 480 | 5/27/1999, 64 FR 28745 | Only (1), (4)(intro.), (5) and (6).
NR 405.07 | Review of major stationary sources and major modifications—source applicability and exemptions | 8/1/2008 | July 2008, No. 631 | 2/21/2023, 64 FR 28745 | Only (3), (4)(intro.), (4)(a)(20), (4)(a)27., (5), (8)(a)3., (8)(a)3m. and Note, (8)(a)5. Note, and (9).
NR 405.08 | Control technology review | 1/1/1996 | Dec 1995, No. 480 | 5/27/1999, 64 FR 28745 | Only (1) and (3).
NR 405.10 | Air quality models | 1/1/1996 | Dec 1995, No. 480 | 5/27/1999, 64 FR 28745 |
NR 405.14 | Sources impacting federal Class I areas—additional requirements | 1/1/1996 | Dec 1995, No. 480 | 5/27/1999, 64 FR 28745 | Only (1), (2), and (4).
NR 405.15 | Public participation | 1/1/1996 | Dec 1995, No. 480 | 5/27/1999, 64 FR 28745 | Only (2)(d).
NR 405.16 | Source obligation | 7/1/2007 | June 2007, No. 618 | 12/17/2008, 73 FR 76558 | Only (3) and (4).
NR 405.18 | Plant-wide applicability limitations (PALs) | 8/1/2008 | July 2008, No. 631 | 2/21/2023, 88 FR 10466 |
NR 405.19 | Forest County Potawatomi Class I area | 12/1/2010 | Nov 2010, No. 659 | 9/19/2013, 78 FR 57501 |
NR 406—Construction Permits
NR 406.01 | Applicability; purpose | 1/1/1994 | Dec 1993, No. 456 | 1/18/1995, 60 FR 3538 |
NR 406.02 | Definitions | 1/1/1994 | Dec 1993, No. 456 | 1/18/1995, 60 FR 3538 | Only (1) “Associated parking area”, (1m) “Highway project”, (2) “Intersection boundary”, (4) “Modified intersection”, (5) “Modified road or highway segment”, (6) “Municipal garbage and refuse”, (7) “New road or highway segment”, (8) “Parking capacity”, (9) “Peak hour queue”, (10) “Peak hour volume”, (10m) “Permit revision”, (11) “Road or highway segment” and (12) “Traffic volume”.
NR 406.02 | Definitions | 10/1/2020 | Sept 2020, No. 777 | 3/3/2022, 87 FR 11957 | Only (1) “Clean fuel”, (1m) “Facility”, (2) “Individual construction permit”, (3) “Initial crusher”, (4) “Initial grinding mill”, and (6) “Permit revision”.
NR 406.03 | Permit requirements and exemptions for construction permits | 6/1/2007 | May 2007, No. 617 | 3/11/2008, 73 FR 12893 |
NR 406.035 | Establishment or distribution of plant-wide applicability limitations | 7/1/2007 | Jun 2007, No. 618 | 12/17/2008, 73 FR 76558 |
NR 406.04 | Direct sources exempt from construction permit requirements | 2/1/2001 | Jan 2001, No. 541 | 12/14/2001, 66 FR 64750 | Only (2)(f).
NR 406.04 | Direct sources exempt from construction permit requirements | 10/1/2020 | Sept 2020, No. 777 | 3/3/2022, 87 FR 11957 | All except (1)(zi), (2)(cs), (2)(f), and (3)(e).
NR 406.06 | Indirect sources exempt from construction permit requirements | 1/1/1994 | Dec 1993, No. 456 | 1/18/1995, 60 FR 3538 |
NR 406.07 | Scope of permit exemption | 7/1/2007 | Jun 2007, No. 618 | 12/17/2008, 73 FR 76558 |
NR 406.08 | Action on permit applications | 12/1/2015 | Nov 2015, No. 719 | 9/7/2018, 83 FR 45348 | Only (1) and (4).
NR 406.09 | Air quality analysis | 1/1/1994 | Dec 1993, No. 456 | 1/18/1995, 60 FR 3538 |
NR 406.10 | Violations | 12/1/2015 | Nov 2015, No. 719 | 9/7/2018, 83 FR 45348 |
NR 406.11 | Construction permit revision, suspension and revocation | 12/1/2015 | Nov 2015, No. 719 | 9/7/2018, 83 FR 45348 |
NR 406.12 | Permit duration periods | 1/1/1994 | Dec 1993, No. 456 | 1/18/1995, 60 FR 3538 |
NR 406.13 | Duty to comply | 1/1/1994 | Dec 1993, No. 456 | 1/18/1995, 60 FR 3538 |
NR 406.14 | Exemption from requirements for indirect sources | 1/1/1994 | Dec 1993, No. 456 | 1/18/1995, 60 FR 3538 |
NR 406.15 | Relocation of portable sources | 5/1/2008 | Apr 2008, No. 628 | 10/22/2008, 73 FR 62889 | Only (3)(a).
NR 406.16 | General construction permits | 12/1/2015 | Nov 2015, No. 719 | 9/7/2018, 83 FR 45348 |
NR 406.17 | Registration construction permits | 10/1/2020 | Sept 2020, No. 777 | 3/3/2022, 87 FR 11957 |
NR 406.18 | Petition For issuance of general construction permits and registration construction permits | 9/1/2005 | Aug 2005, No. 596 | 2/6/2006, 71 FR 5979 |
NR 407—Operation Permits
NR 407.01 | Applicability; purpose | 1/1/1994 | Dec 1993, No. 456 | 1/18/1995, 60 FR 3538 |
NR 407.02 | Definitions | 1/1/1994 | Dec 1993, No. 456 | 1/18/1995, 60 FR 3538 | Except (17)(b)27 and (17)(c)intro. and 1.
NR 407.02 | Definitions | 9/1/2005 | Aug 2005, No. 596 | 2/6/2006, 71 FR 5979 | Only (3) “Facility” and (3m) “Individual operation permit”.
NR 407.02 | Definitions | 5/1/2008 | Apr 2008, No. 628 | 10/22/2008, 73 FR 62889 | Only (3e) and (4)(b)27.
NR 407.02 | Definitions | 3/1/2022 | Feb 2022, No. 794 | 2/1/2023, 88 FR 6632 | Only (4)(c)1. and Note.
NR 407.025 | Permit flexibility | 1/1/1994 | Dec 1993, No. 456 | 1/18/1995, 60 FR 3538 |
NR 407.03 | Exemptions from operation permit requirements | 2/1/2001 | Jan 2001, No. 541 | 12/14/2001, 66 FR 64750 | Except (1)(ce) and (1)(cm).
NR 407.03 | Exemptions from operation permit requirements | 9/1/2005 | Aug 2005, No. 596 | 2/6/2006, 71 FR 5979 | Only (1)(ce) and (1)(cm).
NR 407.04 | Application filing dates | 1/1/1994 | Dec 1993, No. 456 | 1/18/1995, 60 FR 3538 |
NR 407.05 | Applications and forms | 1/1/1994 | Dec 1993, No. 456 | 1/18/1995, 60 FR 3538 | Except (4)(c)1. and Table 2 footnote 8, and (7).
NR 407.05 | Applications and forms | 1/1/1996 | Dec 1995, No. 480 | 5/27/1999, 64 FR 28745 | Only (4)(c)1. and Table 2 footnote 8.
NR 407.05 | Applications and forms | 9/1/2005 | Aug 2005, No. 596 | 2/6/2006, 71 FR 5979 | Only (7).
NR 407.06 | Complete applications | 1/1/1994 | Dec 1993, No. 456 | 1/18/1995, 60 FR 3538 |
NR 407.07 | Action on applications | 1/1/1994 | Dec 1993, No. 456 | 1/18/1995, 60 FR 3538 |
NR 407.08 | Dates by which permits are required | 1/1/1994 | Dec 1993, No. 456 | 1/18/1995, 60 FR 3538 |
NR 407.09 | Permit content | 1/1/1994 | Dec 1993, No. 456 | 1/18/1995, 60 FR 3538 | Except (4)(a)3.c.
NR 407.09 | Permit content | 1/1/1996 | Dec 1995, No. 480 | 5/27/1999, 64 FR 28745 | Only (4)(a)3.c.
NR 407.10 | General operation permits | 9/1/2005 | Aug 2005, No. 596 | 2/6/2006, 71 FR 5979 | All except (4)(a)2.
NR 407.10 | General operation permits | 5/1/2008 | Apr 2008, No. 628 | 10/22/2008, 73 FR 62889 | Only (4)(a)2. and (note).
NR 407.105 | Registration operation permits | 9/1/2005 | Aug 2005, No. 596 | 2/6/2006, 71 FR 5979 |
NR 407.107 | Petitions for issuance of general operation permits and registration operation permits | 9/1/2005 | Aug 2005, No. 596 | 2/6/2006, 71 FR 5979 |
NR 407.11 | Administrative permit revisions | 1/1/1994 | Dec 1993, No. 456 | 1/18/1995, 60 FR 3538 |
NR 407.12 | Minor revisions | 1/1/1994 | Dec 1993, No. 456 | 1/18/1995, 60 FR 3538 |
NR 407.13 | Significant revisions | 1/1/1994 | Dec 1993, No. 456 | 1/18/1995, 60 FR 3538 |
NR 407.14 | Permit revision by the department | 1/1/1994 | Dec 1993, No. 456 | 1/18/1995, 60 FR 3538 | Does not include (4)(c) and Note.
NR 407.14 | Permit revision by the department | 9/1/2005 | Aug 2005, No. 596 | 2/6/2006, 71 FR 5979 | Only (4)(c) and Note.
NR 407.15 | Permit suspension, revocation and withdrawal from coverage | 1/1/1994 | Dec 1993, No. 456 | 1/18/1995, 60 FR 3538 | Only (1), (2), (4), (5), (6) and (7).
NR 407.15 | Permit suspension, revocation and withdrawal from coverage | 9/1/2005 | Aug 2005, No. 596 | 2/6/2006, 71 FR 5979 | Only intro. (3) and (8)(a).
NR 407.16 | Revision procedures for non-part 70 source permits and state only requirements for part 70 sources | 1/1/1994 | Dec 1993, No. 456 | 1/18/1995, 60 FR 3538 |
NR 407.17 | Revisions of acid rain provisions | 1/1/1994 | Dec 1993, No. 456 | 1/18/1995, 60 FR 3538 |
NR 408—Construction Permits for Direct Major Sources in Nonattainment Areas
NR 408.01 | Applicability; purpose | 6/1/1993 | May 1993, No. 449 | 1/18/1995, 60 FR 3538 |
NR 408.02 | Definitions | 6/1/1993 | May 1993, No. 449 | 1/18/1995, 60 FR 3538 | Only (21)(e)5.
NR 408.02 | Definitions | 3/1/2022 | Feb 2022, No. 794 | 2/1/2023, 88 FR 6632 | Except (21)(e)5., (21)(f), (29m)(c), (29m)(d), and (32)(a)5m.
NR 408.025 | Methods for calculation of increases in actual emissions | 7/1/2007 | Jun 2007, No. 618 | 12/17/2008, 73 FR 76560 |
NR 408.03 | Source applicability and exemptions | 6/1/1993 | May 1993, No. 449 | 1/18/1995, 60 FR 3538 |
NR 408.04 | Control technology review | 6/1/1993 | May 1993, No. 449 | 1/18/1995, 60 FR 3538 |
NR 408.05 | Reasonable further progress | 6/1/1993 | May 1993, No. 449 | 1/18/1995, 60 FR 3538 |
NR 408.06 | Emissions offsets | 7/1/2007 | Jun 2007, No. 618 | 12/17/2008, 73 FR 76560 | Except (1)(cm).
NR 408.07 | Source impact analysis | 6/1/1993 | May 1993, No. 449 | 1/18/1995, 60 FR 3538 |
NR 408.08 | Additional conditions for approval | 6/1/1993 | May 1993, No. 449 | 1/18/1995, 60 FR 3538 |
NR 408.09 | Permit application review; public participation | 6/1/1993 | May 1993, No. 449 | 1/18/1995, 60 FR 3538 |
NR 408.10 | Source obligation | 7/1/2007 | Jun 2007, No. 618 | 12/17/2008, 73 FR 76560 |
NR 408.11 | Plant-wide applicability limitations (PALs) | 8/1/2008 | Jul 2008, No. 631 | 5/7/2021, 86 FR 24499 |
NR 409—Acid Rain Portion of Operation Permits
NR 409.02 | Definitions | 1/1/1996 | Dec 1995, No. 480 | 5/27/1999, 64 FR 28745 | Only (76)(intro.).
NR 409.06 | Standard requirements | 1/1/1996 | Dec 1995, No. 480 | 5/27/1999, 64 FR 28745 | Only (8)(d).
NR 410—Air Permit, Emission and Inspection Fees
NR 410.01 | Purpose | 5/1/1984 | Apr 1984, No. 340 | 3/13/1985, 50 FR 10005 |
NR 410.02 | Applicability | 5/1/1984 | Apr 1984, No. 340 | 3/13/1985, 50 FR 10005 |
NR 410.03 | Definitions | 5/1/1984 | Apr 1984, No. 340 | 3/13/1985, 50 FR 10005 |
NR 410.03 | Application fee | 9/1/2005 | Aug 2005, No. 596 | 2/6/2006, 71 FR 5979 | Only (1)(a)(5), (1)(a)(6) and (1)(a)(7).
NR 410.03 | Application fee | 7/1/2007 | Jun 2007, No. 618 | 12/17/2008, 73 FR 76558 | Only intro., (1)(a)(8), (1)(a)(9), (1)(a)(10) and (1)(b).
NR 410.03 | Application fee | 6/1/2007 | May 2007, No. 617 | 8/1/2013, 78 FR 46520 | Only (1)(bm), (1)(d) and (1)(f).
NR 410.03 | Application fee | 5/1/2008 | Apr 2008, No. 628 | 10/22/2008, 73 FR 62889 | Only (4).
NR 410.04 | Application fee | 5/1/1984 | Apr 1984, No. 340 | 3/13/1985, 50 FR 10005 |
NR 410.05 | Implementation and enforcement fee | 5/1/1984 | Apr 1984, No. 340 | 3/13/1985, 50 FR 10005 |
NR 410.06 | Severe ozone nonattainment area major source fee | 2/1/2001 | Jan 2001, No. 541 | 6/25/2002, 67 FR 42729 |
NR 415—Control of Particulate Emissions
NR 415.02 | Definitions | 5/1/2023 | April 2023, No. 808 | 10/29/2024, 89 FR 85857 | Except (3) and (8).
NR 415.03 | General Limitations | 5/1/2023 | April 2023, No. 808 | 10/29/2024, 89 FR 85857 |
NR 415.035 | Specific geographic areas for additional particulate emission control | 5/1/2023 | April 2023, No. 808 | 10/29/2024, 89 FR 85857 |
NR 415.04 | Fugitive dust | 5/1/2023 | April 2023, No. 808 | 10/29/2024, 89 FR 85857 |
NR 415.05 | Particulate matter emission limits for processes | 5/1/2023 | April 2023, No. 808 | 10/29/2024, 89 FR 85857 |
NR 415.06 | Particulate matter emission limits for fuel burning installations | 5/1/2023 | April 2023, No. 808 | 10/29/2024, 89 FR 85857 |
NR 415.07 | Particulate matter emission limits for incinerators | 5/1/2023 | April 2023, No. 808 | 10/29/2024, 89 FR 85857 |
NR 415.075 | Particulate matter emission limitations for ledge rock quarries and industrial sand mines | 5/1/2023 | April 2023, No. 808 | 10/29/2024, 89 FR 85857 | Only (2)(a)5. and (3)intro.
NR 415.08 | RACT requirements for coking operations | 5/1/2023 | April 2023, No. 808 | 10/29/2024, 89 FR 85857 |
NR 415.09 | Compliance schedule for sources of condensible particulate matter | 5/1/2023 | April 2023, No. 808 | 10/29/2024, 89 FR 85857 | Only (1) and (3)intro.
NR 417—Control of Sulfur Emissions
NR 417.01 | Applicability; purpose | 11/1/1999 | Oct 1999, No. 526 | 10/29/2024, 89 FR 85857 | Only (1).
NR 417.02 | Definitions | 11/1/1999 | Oct 1999, No. 526 | 10/29/2024, 89 FR 85857 |
NR 417.06 | Total reduced sulfur limitations | 11/1/1999 | Oct 1999, No. 526 | 10/29/2024, 89 FR 85857 |
NR 417.07 | Statewide sulfur dioxide emission limitations | 11/1/1999 | Oct 1999, No. 526 | 10/29/2024, 89 FR 85857 | Except (2)(e) and (f).
NR 418—Sulfur Emission Control in Specific Geographic Areas
NR 418.01 | Applicability; purpose | 1/1/1996 | Dec 1995, No. 480 | 5/27/1999, 64 FR 28745 | Only (1).
NR 418.025 | Brokaw RACT sulfur limitations | 1/1/1996 | Dec 1995, No. 480 | 5/27/1999, 64 FR 28745 | Except (1)(e).
NR 418.03 | Madison RACT sulfur limitations | 1/1/1996 | Dec 1995, No. 480 | 5/27/1999, 64 FR 28745 |
NR 418.04 | Milwaukee RACT sulfur limitations | 1/1/1996 | Dec 1995, No. 480 | 5/27/1999, 64 FR 28745 |
NR 418.05 | Green Bay and DePere RACT sulfur limitations | 1/1/1996 | Dec 1995, No. 480 | 5/27/1999, 64 FR 28745 |
NR 418.06 | Peshtigo RACT sulfur limitations | 1/1/1996 | Dec 1995, No. 480 | 5/27/1999, 64 FR 28745 | Except (2)(b).
NR 418.08 | Rothschild RACT sulfur limitations | 1/1/1996 | Dec 1995, No. 480 | 5/27/1999, 64 FR 28745 |
NR 419—Control of Organic Compound Emissions
NR 419.01 | Applicability; purpose | 3/1/1990 | Feb 1990, No. 410 | 4/27/1995, 60 FR 20643 |
NR 419.02 | Definitions | 6/1/2022 | May 2022, No. 797 | 6/6/2023, 88 FR 36962 |
NR 419.03 | General limitations | 3/1/1990 | Feb 1990, No. 410 | 4/27/1995, 60 FR 20643 |
NR 419.04 | Disposal of VOC wastes | 3/1/1990 | Feb 1990, No. 410 | 4/27/1995, 60 FR 20643 |
NR 419.045 | Industrial wastewater collection and treatment operations | 2/1/2012 | Jan 2012, No. 673 | 8/7/2012, 77 FR 46963 |
NR 419.05 | Storage of any organic compound | 1/1/1994 | Dec 1993, No. 456 | 4/27/1995, 60 FR 20643 |
NR 419.06 | Transfer of any organic compound | 3/1/1990 | Feb 1990, No. 410 | 4/27/1995, 60 FR 20643 |
NR 419.08 | Core and mold manufacturing for iron or steel foundries | 7/1/1994 | Jun 1994, No. 462 | 2/13/1996, 61 FR 5514 |
NR 420—Control of Organic Compound Emissions From Petroleum and Gasoline Sources
NR 420.01 | Applicability; purpose | 3/1/1990 | Feb 1990, No. 410 | 4/27/1995, 60 FR 20643 |
NR 420.02 | Definitions | 8/1/2016 | Jul 2016, No. 727 | 10/25/2018, 83 FR 53816 |
NR 420.03 | Storage of petroleum liquids | 1/1/1996 | Dec 1995, No. 480 | 5/27/1999, 64 FR 28745 | Only (5)(b)5., (5)(b)6., (5)(b)7., and (6)(b)9.
NR 420.03 | Storage of petroleum liquids | 8/1/2016 | Jul 2016, No. 727 | 10/25/2018, 83 FR 53816 | Except (5)(b)5., (5)(b)6., (5)(b)7., (5)(b)8., (5)(c), (5)(d), (6)(b)9., and (6)(b)10.
NR 420.035 | Gasoline storage tank vent pipes | 1/1/1996 | Dec 1995, No. 480 | 5/27/1999, 64 FR 28745 |
NR 420.04 | Transfer operations and associated equipment | 8/1/2016 | Jul 2016, No. 727 | 10/25/2018, 83 FR 53816 |
NR 420.05 | Petroleum refinery sources | 6/1/1992 | May 1992, No. 437 | 4/27/1995, 60 FR 20643 |
NR 421—Control of Organic Compound Emissions From Chemical, Coatings and Rubber Products Manufacturing
NR 421.01 | Applicability; purpose | 3/1/1990 | Feb 1990, No. 410 | 4/27/1995, 60 FR 20643 |
NR 421.02 | Definitions | 6/1/2022 | May 2022, No. 797 | 6/6/2023, 88 FR 36962 |
NR 421.03 | Chemical manufacture | 1/1/1994 | Dec 1993, No. 456 | 4/27/1995, 60 FR 20643 |
NR 421.05 | Synthetic resin manufacturing | 2/1/2012 | Jan 2012, No. 673 | 8/7/2012, 77 FR 46963 |
NR 421.06 | Coatings manufacturing | 2/1/2012 | Jan 2012, No. 673 | 8/7/2012, 77 FR 46963 |
NR 421.07 | Synthetic organic chemical manufacturing industry | 2/1/2012 | Jan 2012, No. 673 | 8/7/2012, 77 FR 46963 |
NR 422—Control of Organic Compound Emissions From Surface Coating, Printing and Asphalt Surfacing Operations
NR 422.01 | Applicability; purpose | 6/1/2022 | May 2022, No. 797 | 6/6/2023, 88 FR 36962 |
NR 422.02 | Definitions | 6/1/2022 | May 2022, No. 797 | 6/6/2023, 88 FR 36962 |
NR 422.03 | Exemptions | 6/1/2022 | May 2022, No. 797 | 6/6/2023, 88 FR 36962 |
NR 422.04 | Methods of compliance | 6/1/2022 | May 2022, No. 797 | 6/6/2023, 88 FR 36962 |
NR 422.05 | Can coating | 6/1/2022 | May 2022, No. 797 | 6/6/2023, 88 FR 36962 |
NR 422.06 | Coil coating | 6/1/2022 | May 2022, No. 797 | 6/6/2023, 88 FR 36962 |
NR 422.07 | Paper coating—part 1 | 8/1/2009 | Jul 2009, No. 643 | 8/7/2012, 77 FR 46963 | Only (title).
NR 422.075 | Paper coating—part 2 | 2/1/2012 | Jan 2012, No. 673 | 8/7/2012, 77 FR 46963 |
NR 422.08 | Fabric and vinyl coating | 6/1/2022 | May 2022, No. 797 | 6/6/2023, 88 FR 36962 |
NR 422.083 | Plastic parts coating—part 1 | 6/1/2022 | May 2022, No. 797 | 6/6/2023, 88 FR 36962 |
NR 422.084 | Plastic parts coating—part 2 | 6/1/2022 | May 2022, No. 797 | 6/6/2023, 88 FR 36962 |
NR 422.085 | Leather coating | 2/1/2012 | Jan 2012, No. 673 | 8/7/2012, 77 FR 46963 | Only (1).
NR 422.09 | Automobile and light-duty truck manufacturing | 2/1/2012 | Jan 2012, No. 673 | 8/7/2012, 77 FR 46963 | Only (1) and (6).
NR 422.095 | Automobile refinishing operations | 2/1/2012 | Jan 2012, No. 673 | 8/7/2012, 77 FR 46963 | Only (1), (2)(a), (2)(c), (2)(d), (2)(e), (2)(f), (2)(g), (2)(h), (2)(i), (7), and (8).
NR 422.10 | Furniture metal coating—part 1 | 8/1/2009 | Jul 2009, No. 643 | 8/7/2012, 77 FR 46963 | Only (title).
NR 422.105 | Furniture metal coating—part 2 | 2/1/2012 | Jan 2012, No. 673 | 8/7/2012, 77 FR 46963 |
NR 422.11 | Surface coating of large appliances—part 1 | 8/1/2009 | Jul 2009, No. 643 | 8/7/2012, 77 FR 46963 | Only (title).
NR 422.115 | Surface coating of large appliance—part 2 | 2/1/2012 | Jan 2012, No. 673 | 8/7/2012, 77 FR 46963 |
NR 422.12 | Magnet wire coaling | 3/1/1990 | Feb 1990, No. 410 | 4/27/1995, 60 FR 20643 |
NR 422.125 | Wood furniture coating | 2/1/2012 | Jan 2012, No. 673 | 8/7/2012, 77 FR 46963 | Only (1) and (4m).
NR 422.127 | Use of adhesives—part 1 | 6/1/2022 | May 2022, No. 797 | 6/6/2023, 88 FR 36962 |
NR 422.128 | Use of adhesives—part 2 | 6/1/2022 | May 2022, No. 797 | 6/6/2023, 88 FR 36962 |
NR 422.13 | Flat wood panel coating—part 1 | 8/1/2009 | Jul 2009, No. 643 | 8/7/2012, 77 FR 46963 | Only (title).
NR 422.131 | Flat wood panel coating—part 2 | 8/1/2009 | Jul 2009, No. 643 | 8/7/2012, 77 FR 46963 |
NR 422.132 | Wood door coating | 2/1/2012 | Jan 2012, No. 673 | 8/7/2012, 77 FR 46963 |
NR 422.135 | Molded wood parts or products | 2/1/2012 | Jan 2012, No. 673 | 8/7/2012, 77 FR 46963 |
NR 422.14 | Graphic arts | 6/1/2022 | May 2022, No. 797 | 6/6/2023, 88 FR 36962 |
NR 422.141 | Flexible package printing | 8/1/2009 | Jul 2009, No. 643 | 8/7/2012, 77 FR 46963 |
NR 422.142 | Lithographic printing—part 1 | 7/1/2019 | June 2019, No. 762 | 2/12/2021, 86 FR 9294 |
NR 422.143 | Lithographic printing—part 2 | 7/1/2019 | June 2019, No. 762 | 2/12/2021, 86 FR 9294 |
NR 422.144 | Letterpress printing | 2/1/2012 | Jan 2012, No. 673 | 8/7/2012, 77 FR 46963 |
NR 422.145 | Screen printing | 6/1/2022 | May 2022, No. 797 | 6/6/2023, 88 FR 36962 |
NR 422.15 | Miscellaneous metal parts and products—part 1 | 6/1/2022 | May 2022, No. 797 | 6/6/2023, 88 FR 36962 |
NR 422.151 | Miscellaneous metal parts and products—part 2 | 6/1/2022 | May 2022, No. 797 | 6/6/2023, 88 FR 36962 |
NR 422.155 | Fire truck and emergency response vehicle manufacturing | 2/1/2012 | Jan 2012, No. 673 | 8/7/2012, 77 FR 46963 | Only (1) and (5).
NR 422.16 | Use of asphalt surfacing materials | 3/1/1990 | Feb 1990, No. 410 | 4/27/1995, 60 FR 20643 |
NR 422.17 | Application of traffic marking materials | 8/1/1994 | Jul 1994, No. 463 | 4/29/1996, 61 FR 18681 |
NR 423—Control of Organic Compound Emissions From Solvent Cleaning Operations
NR 423.01 | Applicability; purpose | 3/1/1990 | Feb 1990, No. 410 | 4/27/1995, 60 FR 20643 |
NR 423.02 | Definitions | 8/1/2009 | Jul 2009, No. 643 | 8/7/2012, 77 FR 46963 |
NR 423.03 | Solvent metal cleaning | 1/1/1996 | Dec 1995, No. 480 | 5/27/1999, 64 FR 28745 | Except (2)(i).
NR 423.035 | Industrial cleaning operations—part 1 | 6/1/2022 | May 2022, No. 797 | 6/6/2023, 88 FR 36962 |
NR 423.037 | Industrial cleaning operations—part 2 | 6/1/2022 | May 2022, No. 797 | 6/6/2023, 88 FR 36962 |
NR 423.04 | Perchloroethylene dry cleaning | 1/1/1994 | Dec 1993, No. 456 | 4/27/1995, 60 FR 20643 |
NR 423.05 | Petroleum liquid solvent dry cleaning | 1/1/1994 | Dec 1993, No. 456 | 4/27/1995, 60 FR 20643 |
NR 424—Control of Organic Compound Emissions From Process Lines
NR 424.01 | Applicability; purpose | 3/1/1990 | Feb 1990, No. 410 | 4/27/1995, 60 FR 20643 |
NR 424.02 | Definitions | 7/1/1994 | Jun 1994, No. 462 | 6/30/1995, 60 FR 34170 |
NR 424.03 | Process lines emitting organic compounds | 1/1/1996 | Dec 1995, No. 480 | 5/27/1999, 64 FR 28745 | Except (1)(c).
NR 424.04 | Aerosol can filling | 1/1/1994 | Dec 1993, No. 456 | 4/27/1995, 60 FR 20643 |
NR 424.05 | Yeast manufacturing | 1/1/2006 | Dec 2005, No. 600 | 9/22/2006, 71 FR 55287 |
NR 425—Compliance Schedules, Delays, Exceptions and Internal Offsets for Organic Compound Emission Sources
in Chs. NR 419 to 424
NR 425.01 | Applicability; purpose | 3/1/1990 | Feb 1990, No. 410 | 4/27/1995, 60 FR 20643 |
NR 425.02 | Definitions | 3/1/1990 | Feb 1990, No. 410 | 4/27/1995, 60 FR 20643 |
NR 425.03 | Compliance schedules | 1/1/1996 | Dec 1995, No. 480 | 5/27/1999, 64 FR 28745 | Except (1), Effective Date Table, and (6)(a).
NR 425.04 | Exceptions, registrations and non-ozone season allowances | 6/1/2022 | May 2022, No. 797 | 6/6/2023, 88 FR 36962 |
NR 425.05 | Internal offsets | 1/1/1994 | Dec 1993, No. 456 | 4/27/1995, 60 FR 20643 |
NR 426—Control of Carbon Monoxide Emissions
NR 426.04 | Cupola emission limitations | 1/1/1996 | Dec 1995, No. 480 | 5/27/1999, 64 FR 28745 |
NR 428—Control of Nitrogen Compound Emissions
NR 428.01 | Applicability; purpose | 2/1/2001 | Jan 2001, No. 541 | 11/13/2001, 66 FR 56931 |
NR 428.02 | Definitions | 4/1/2024 | March 2024, No. 819 | 11/22/2024, 89 FR 92600 |
NR 428.04 | Requirements and performance standards for new or modified sources | 4/1/2024 | March 2024, No. 819 | 11/22/2024, 89 FR 92600 |
NR 428.05 | Requirements and performance standards for existing sources | 4/1/2024 | March 2024, No. 819 | 11/22/2024, 89 FR 92600 |
NR 428.055 | Alternatives | 4/1/2024 | March 2024, No. 819 | 11/22/2024, 89 FR 92600 |
NR 428.06 | Compliance determination | 1/1/2004 | Dec 2003, No. 576 | 4/29/2005, 70 FR 22259 | Only (2)(a).
NR 428.07 | General Requirements | 4/1/2024 | March 2024, No. 819 | 11/22/2024, 89 FR 92600 |
NR 428.08 | Specific provisions for monitoring NOX and heat input for the purpose of calculating NOX emissions | 4/1/2024 | March 2024, No. 819 | 11/22/2024, 89 FR 92600 |
NR 428.09 | Quarterly reports | 2/1/2001 | Jan 2001, No. 541 | 11/13/2001, 66 FR 56931 | Except (2)(a).
NR 428.09 | Quarterly reports | 9/1/2009 | Aug 2009, No. 644 | 10/19/2010, 75 FR 64155 | Only (2)(a).
NR 428.10 | Petitions | 2/1/2001 | Jan 2001, No. 541 | 11/13/2001, 66 FR 56931 |
NR 428.11 | Additional requirements to provide heat input data | 2/1/2001 | Jan 2001, No. 541 | 11/13/2001, 66 FR 56931 |
NR 428.12 | Alternative monitoring, recordkeeping | 9/1/2009 | Aug 2009, No. 644 | 10/19/2010, 75 FR 64155 |
NR 428.20 | Applicability and purpose | 3/1/2022 | Feb 2022, No. 794 | 2/1/2023, 88 FR 6632 |
NR 428.21 | Emissions unit exemptions | 4/1/2024 | March 2024, No. 819 | 11/22/2024, 89 FR 92600 |
NR 428.22 | Emission limitation requirements | 4/1/2024 | March 2024, No. 819 | 11/22/2024, 89 FR 92600 |
NR 428.23 | Demonstrating compliance with mission limitations | 9/1/2009 | Aug 2009, No. 644 | 10/19/2010, 75 FR 64155 |
NR 428.24 | Recordkeeping and reporting | 4/1/2024 | March 2024, No. 819 | 11/22/2024, 89 FR 92600 |
NR 428.25 | Alternative compliance methods and approaches | 9/1/2009 | Aug 2009, No. 644 | 10/19/2010, 75 FR 64155 |
NR 428.26 | Utility reliability waiver | 8/1/2007 | Jul 2007, No. 619 | 10/19/2010, 75 FR 64155 |
NR 428.255 | Compliance schedule | 3/1/2022 | Feb 2022, No. 794 | 2/1/2023, 88 FR 6632 |
NR 429—Malodorous Emissions and Open Burning
NR 429.02 | Definitions | 1/1/1996 | Dec 1995, No. 480 | 5/27/1999, 64 FR 28745 |
NR 431—Control of Visible Emissions
NR 431.03 | General limitations | 11/1/2003 | Nov 2003, No. 574 | 10/29/2024, 89 FR 85857 |
NR 431.04 | Emission limitations on or before April 1, 1972 | 11/1/2003 | Nov 2003, No. 574 | 10/29/2024, 89 FR 85857 |
NR 431.05 | Emission limitations after April 1, 1972 | 11/1/2003 | Nov 2003, No. 574 | 10/29/2024, 89 FR 85857 |
NR 432—Allocation of Clean Air Interstate Rule NOX Allowances
NR 432.01 | Applicability; purpose | 8/1/2007 | Jul 2007, No. 619 | 10/16/2007, 72 FR 58542 |
NR 432.02 | Definitions | 8/1/2007 | Jul 2007, No. 619 | 10/16/2007, 72 FR 58542 |
NR 432.03 | CAIR NOX allowance allocation | 8/1/2007 | Jul 2007, No. 619 | 10/16/2007, 72 FR 58542 |
NR 432.05 | CAIR NOX ozone season allowance allocation | 8/1/2007 | Jul 2007, No. 619 | 10/16/2007, 72 FR 58542 |
NR 432.06 | Timing requirements for allocations of CAIR NOX allowances and CAIR NOX ozone season allowances | 8/1/2007 | Jul 2007, No. 619 | 10/16/2007, 72 FR 58542 |
NR 432.07 | CAIR renewable units | 8/1/2007 | Jul 2007, No. 619 | 10/16/2007, 72 FR 58542 |
NR 436—Emission Prohibition, Exceptions, Delayed Compliance Orders and Variances
NR 436.01 | Applicability; purpose | 11/1/1999 | Oct 1999, No. 526 | 10/29/2024, 89 FR 85857 | Except (2).
NR 436.02 | Definitions | 11/1/1999 | Oct 1999, No. 526 | 10/29/2024, 89 FR 85857 |
NR 436.03 | Emissions prohibited | 11/1/1999 | Oct 1999, No. 526 | 10/29/2024, 89 FR 85857 | Except (2).
NR 436.04 | Delayed compliance orders | 11/1/1999 | Oct 1999, No. 526 | 10/29/2024, 89 FR 85857 |
NR 436.05 | RACT variances | 11/1/1999 | Oct 1999, No. 526 | 10/29/2024, 89 FR 85857 | Except (5).
NR 436.06 | Alternate fuel variances | 11/1/1999 | Oct 1999, No. 526 | 10/29/2024, 89 FR 85857 |
NR 436.07 | Duty to comply with applicable provisions | 11/1/1999 | Oct 1999, No. 526 | 10/29/2024, 89 FR 85857 |
NR 438—Air Contaminant Emissions Inventory Reporting Requirements
NR 438.01 | Applicability; purpose | 8/1/2022 | July 2022, No. 799 | 7/24/2023, 88 FR 47375 |
NR 438.02 | Definitions | 8/1/2022 | July 2022, No. 799 | 7/24/2023, 88 FR 47375 |
NR 438.03 | Required emission inventory reports | 8/1/2022 | July 2022, No. 799 | 7/24/2023, 88 FR 47375 | Except (am)2.
NR 438.04 | Content of emission inventory reports | 8/1/2022 | July 2022, No. 799 | 7/24/2023, 88 FR 47375 |
NR 439—Reporting, Recordkeeping, Testing, Inspection and Determination of Compliance
NR 439.01 | Applicability; purpose | 6/1/1992 | May 1992, No. 437 | 4/27/1995, 60 FR 20643 |
NR 439.02 | Definitions | 1/1/1994 | Dec 1993, No. 456 | 4/27/1995, 60 FR 20643 |
NR 439.03 | Reporting | 1/1/1996 | Apr 1995, No. 472 | 5/27/1999, 64 FR 28745 |
NR 439.03 | Reporting | 1/1/1994 | Dec 1993, No. 456 | 4/27/1995, 60 FR 20643 | Except (1)(c) and (4)(a)(intro.).
NR 439.03 | Reporting | 1/1/1996 | Dec 1995, No. 480 | 5/27/1999, 64 FR 28745 | Only (1)(c) and (4)(a)(intro.).
NR 439.04 | Recordkeeping | 1/1/1994 | Dec 1993, No. 456 | 4/27/1995, 60 FR 20643 | Except (4) and (5).
NR 439.04 | Recordkeeping | 2/1/2012 | Jan 2012, No. 673 | 8/7/2012, 77 FR 46963 | Only (6).
NR 439.04 | Recordkeeping | 6/1/2022 | May 2022, No. 797 | 6/6/2023, 88 FR 36962 | Only (4) and (5).
NR 439.05 | Access to records; inspections | 1/1/1994 | Dec 1993, No. 456 | 4/27/1995, 60 FR 20643 |
NR 439.055 | Methods and procedures for determining compliance using instrumentation of air pollution control equipment and source processes | 1/1/1994 | Dec 1993, No. 456 | 4/27/1995, 60 FR 20643 |
NR 439.06 | Methods and procedures for determining compliance with emission limitations (by air contaminant) | 1/1/1994 | Dec 1993, No. 456 | 4/27/1995, 60 FR 20643 | Except (3)(b) and (3)(i).
NR 439.06 | Methods and procedures for determining compliance with emission limitations (by air contaminant) | 8/1/2009 | Jul 2009, No. 643 | 8/7/2012, 77 FR 46963 | Only (3)(j).
NR 439.06 | Methods and procedures for determining compliance with emission limitations (by air contaminant) | 2/1/2012 | Jan 2012, No. 673 | 8/7/2012, 77 FR 46963 | Only (3)(b).
NR 439.06 | Methods and procedures for determining compliance with emission limitations (by air contaminant) | 8/1/2016 | Jul 2016, No. 727 | 7/7/2017, 82 FR 9515 | (3)(i) repealed.
NR 439.07 | Methods and procedures for periodic compliance emission testing | 1/1/1994 | Dec 1993, No. 456 | 4/27/1995, 60 FR 20643 |
NR 439.075 | Periodic compliance emission testing requirements | 1/1/1996 | Dec 1995, No. 480 | 5/27/1999, 64 FR 28745 | Except (2)(c)3.j.
NR 439.075 | Periodic compliance emission testing requirements | 8/1/2009 | Jul 2009, No. 643 | 8/7/2012, 77 FR 46963 | Only (2)(c)3.j.
NR 439.08 | Methods and procedures for periodic fuel sampling and analysis | 6/1/1993 | May 1993, No. 449 | 4/27/1995, 60 FR 20643 |
NR 439.085 | Periodic fuel sampling and analysis requirement | 6/1/1992 | May 1992, No. 437 | 4/27/1995, 60 FR 20643 |
NR 439.09 | Methods and procedures for continuous emission monitoring | 7/1/1994 | Jun 1994, No. 462 | 6/30/1995, 60 FR 34170 |
NR 439.095 | Continuous emission monitoring requirements | 7/1/1994 | Jun 1994, No. 462 | 6/30/1995, 60 FR 34170 | Except (2).
NR 439.095 | Continuous emission monitoring requirements | 1/1/1996 | Dec 1995, No. 480 | 5/27/1999, 64 FR 28745 | Only (2).
NR 439.096 | Methods and procedures for combustion optimization | 2/1/2001 | Jan 2001, No. 541 | 11/13/2001, 66 FR 56931 |
NR 439.10 | Circumvention | 10/1/1987 | Sep 1987, No. 381 | 4/27/1995, 60 FR 20643 |
NR 439.11 | Malfunction prevention and abatement plans | 1/1/1994 | Dec 1993, No. 456 | 4/27/1995, 60 FR 20643 |
NR 445—Control of Hazardous Air Pollutants
NR 445.16 | Notice of hazardous substance air spills | 4/1/2016 | March 2016, No. 723 | 10/29/2024, 89 FR 85857 |
NR 447—Control of Asbestos Emissions
NR 447.02 | Definitions | 7/1/2004 | June 2004, No. 582 | 10/29/2024, 89 FR 85857 | Only (intro.), (6), (7), (16), (18) Note and (31).
NR 447.07 | Demolition and renovation; notification requirements | 7/1/2004 | June 2004, No. 582 | 10/29/2024, 89 FR 85857 | Only (3)(intro.), (a) and (d).
NR 447.12 | Waste disposal for asbestos mills | 7/1/2004 | June 2004, No. 582 | 10/29/2024, 89 FR 85857 | Only (3)(b) Note.
NR 447.16 | Reporting | 7/1/2004 | June 2004, No. 582 | 10/29/2024, 89 FR 85857 | Only (2).
NR 447.18 | Operations that convert asbestos-containing waste material into nonasbestos (asbestos-free) material | 7/1/2004 | June 2004, No. 582 | 10/29/2024, 89 FR 85857 | Only (intro.) and (1) Note.
NR 448—Control of Beryllium Emissions
NR 448.02 | Definitions | 1/1/1996 | Dec 1995, No. 480 | 5/27/1999, 64 FR 28745 | Only (intro.).
NR 448.04 | Stack emission sampling and emission limits | 1/1/1996 | Dec 1995, No. 480 | 5/27/1999, 64 FR 28745 | Only (2).
NR 449—Control of Vinyl Chloride Emissions
NR 449.02 | Definitions | 1/1/1996 | Dec 1995, No. 480 | 5/27/1999, 64 FR 28745 | Only (intro.).
NR 449.09 | Emission tests | 1/1/1996 | Dec 1995, No. 480 | 5/27/1999, 64 FR 28745 | Only (6)(a)3. and 4., (d)2. and (e)1.(intro.).
NR 449.12 | Semiannual report | 1/1/1996 | Dec 1995, No. 480 | 5/27/1999, 64 FR 28745 | Only (3)(a) and (3)(b)5.
NR 484—Incorporation by Reference
NR 484.01 | Applicability; purpose | 6/1/1992 | May 1992, No. 437 | 4/27/1995, 60 FR 20643 |
NR 484.02 | Definitions | 10/1/1986 | Sep 1986, No. 369 | 4/27/1995, 60 FR 20643 |
NR 484.03 | Code of federal regulations and other materials in chs. NR 400 to 404 | 6/1/1993 | May 1993, No. 449 | 4/27/1995, 60 FR 20643 |
NR 484.03 | Code of federal regulations and other materials in chs. NR 400 to 404 | 10/1/2009 | Sep 2009, No. 645 | 1/31/2011, 76 FR 5270 | Only (5).
NR 484.04 | Code of federal regulations appendices | 9/1/2001 | Aug 2001, No. 548 | 11/13/2001, 66 FR 56931 | Only (1), (2), (4), (7), (8), (9), (10), (11), (12), (14), (15), (18), (22), (23), (24), (26), and (28).
NR 484.04 | Code of federal regulations appendices | 7/1/2007 | Jun 2007, No. 618 | 12/17/2008, 73 FR 76560 | Only (21) and (27m).
NR 484.04 | Code of federal regulations appendices | 8/1/2007 | Jul 2007, No. 619 | 10/19/2010, 75 FR 64155 | Only (15m), (16m), (21m), (26m)(bm), (26m)(d) and (27).
NR 484.04 | Code of federal regulations appendices | 10/1/2009 | Sep 2009, No. 645 | 1/31/2011, 76 FR 5270 | Only (6).
NR 484.04 | Code of federal regulations appendices | 2/1/2012 | Jan 2012, No. 673 | 8/7/2012, 77 FR 46963 | Only (intro.).
NR 484.04 | Code of federal regulations appendices | 2/1/2012 | Jan 2012, No. 673 | 8/7/2012, 77 FR 46963 | Only (13), (16), (17), (19), (20), (20e), (25) and (27s).
NR 484.04 | Code of federal regulations appendices | 10/1/2009 | Dec 2017, No. 744 | 9/17/2018, 83 FR 46882 | Only (6g) and (6r).
NR 484.04 | Code of federal regulations appendices | 3/1/2022 | Feb 2022, No. 794 |  | Only (7s).
NR 484.04 | Code of federal regulations appendices | 4/1/2024 | Mar 2024, No. 819 |  | Only (15m).
NR 484.05 | Code of federal regulations and other materials in chs. NR 419 to 438 | 1/1/1994 | Dec 1993, No. 456 | 4/27/1995, 60 FR 20643 | Only (1), (1m), (3), (4), (5), (6), (7), (8) and (9).
NR 484.05 | Code of federal regulations and other materials in chs. NR 419 to 438 | 9/1/1994 | Aug 1994, No. 464 | 6/30/1995, 60 FR 34170 | Only (9).
NR 484.05 | Code of federal regulations and other materials in chs. NR 419 to 438 | 1/1/1996 | Dec 1995, No. 480 | 5/27/1999, 64 FR 28745 | Only (3).
NR 484.05 | Code of federal regulations and other materials in chs. NR 419 to 438 | 2/1/2012 | Jan 2012, No. 673 | 8/7/2012, 77 FR 46963 | Only (1).
NR 484.06 | Code of federal regulations and other materials in ch. NR 439 | 1/1/1994 | Dec 1993, No. 456 | 4/27/1995, 60 FR 20643 |
NR 484.06 | Other government organizations | 2/1/2012 | Jan 2012, No. 673 | 8/7/2012, 77 FR 46963 | Only (4)(Note), (4)(e), (4)(f) and (4)(g).
NR 484.06 | Other government organizations | 8/1/2022 | July 2022, No. 799 |  | Only (4)(a).
NR 484.08 | Code of federal regulations in chs. NR 445 to 483 | 11/1/1992 | Oct 1992, No. 442 | 4/27/1995, 60 FR 20643 |
NR 484.09 | Other materials in chs. NR 445 to 483 | 11/1/1992 | Oct 1992, No. 442 | 4/27/1995, 60 FR 20643 |
NR 484.10 | American society for testing and materials | 2/1/2001 | Jan 2001, No. 541 | 12/14/2001, 66 FR 64750 | Except Table 5 rows (6), (9), (12), (14), (21), (32), (36), (39m) and (56).
NR 484.10 | American society for testing and materials | 8/1/2009 | Jul 2009, No. 643 | 8/7/2012, 77 FR 46963 | Only Table 5 rows (12), (14), (21), (32), (36) and (56).
NR 484.10 | American society for testing and materials | 2/1/2012 | Jan 2012, No. 673 | 8/7/2012, 77 FR 46963 | Only Table 5 rows (6), (39m), (55b), (55bg) and (55br).
NR 484.10 | American society for testing and materials | 6/1/2022 | May 2022, No. 797 | 6/6/2023, 88 FR 36962 | Only Table 5 rows (9) and (25m).
NR 484.11 | Other private organizations | 1/1/1996 | Dec 1995, No. 480 | 5/27/1999, 64 FR 28745 | Only (1)(a).
NR 484.11 | Other private organizations | 8/1/2009 | Jul 2009, No. 643 | 8/7/2012, 77 FR 46963 | Only (4), (5)(Table 6E) and (12).
NR 485—Control of Emissions From Motor Vehicles, Internal Combustion Engines and Mobile Sources; Tampering Prohibition
NR 485.01 | Applicability; purpose | 6/1/1992 | May 1992, No. 437 | 9/19/2013, 78 FR 57501 |
NR 485.02 | Definitions | 12/1/2010 | Nov 2010, No. 659 | 9/19/2013, 78 FR 57501 |
NR 485.03 | General limitations | 2/1/2001 | Jan 2001, No. 541 | 8/16/2001, 66 FR 42949 |
NR 485.04 | Motor vehicle emission limitations; exemptions | 12/1/2010 | Nov 2010, No. 659 | 9/19/2013, 78 FR 57501 |
NR 485.05 | Visible emission limits for motor vehicles, internal combustion engines and mobile sources | 2/1/2001 | Jan 2001, No. 541 | 8/16/2001, 66 FR 42949 |
NR 485.055 | Particulate emission limit for gasoline and diesel internal combustion engines | 2/1/2001 | Jan 2001, No. 541 | 8/16/2001, 66 FR 42949 |
NR 485.06 | Tampering with air pollution control equipment | 4/1/2006 | Mar 2006, No. 603 | 9/19/2013, 78 FR 57501 |
NR 485.07 | Inspection requirement for motor vehicle tampering | 2/1/1997 | Jan 1997, No. 493 | 9/19/2013, 78 FR 57501 |
NR 486—Employee Commute Options Program
NR 486.01 | Applicability; purpose | 10/1/1993 | Sep 1993, No. 453 | 1/31/1995, 60 FR 5867 |
NR 486.02 | Definitions | 10/1/1993 | Sep 1993, No. 453 | 1/31/1995, 60 FR 5867 |
NR 486.03 | General requirements; exceptions | 10/1/1993 | Sep 1993, No. 453 | 1/31/1995, 60 FR 5867 |
NR 486.04 | Notification; registration | 10/1/1993 | Sep 1993, No. 453 | 1/31/1995, 60 FR 5867 |
NR 486.05 | Employe transportation coordinator | 10/1/1993 | Sep 1993, No. 453 | 1/31/1995, 60 FR 5867 |
NR 486.06 | Employe trip reduction compliance plans and surveys | 10/1/1993 | Sep 1993, No. 453 | 1/31/1995, 60 FR 5867 |
NR 486.07 | Compliance plan submittal deadline | 10/1/1993 | Sep 1993, No. 453 | 1/31/1995, 60 FR 5867 |
NR 486.08 | Compliance plan review, approval and disapproval process | 10/1/1993 | Sep 1993, No. 453 | 1/31/1995, 60 FR 5867 |
NR 486.09 | Annual employe trip reduction compliance plan renewal | 10/1/1993 | Sep 1993, No. 453 | 1/31/1995, 60 FR 5867 |
NR 486.10 | Averaging; trading | 10/1/1993 | Sep 1993, No. 453 | 1/31/1995, 60 FR 5867 |
NR 486.11 | Recordkeeping and monitoring | 10/1/1993 | Sep 1993, No. 453 | 1/31/1995, 60 FR 5867 |
NR 486.12 | Enforcement procedures and penalties | 10/1/1993 | Sep 1993, No. 453 | 1/31/1995, 60 FR 5867 |
NR 487—Clean Fuel Fleet Program
NR 487.01 | Applicability; purpose | 6/1/1995 | May 1995, No. 473 | 3/11/1996, 61 FR 9639 |
NR 487.02 | Definitions | 6/1/1995 | May 1995, No. 473 | 3/11/1996, 61 FR 9639 |
NR 487.03 | General Requirements | 6/1/1995 | May 1995, No. 473 | 3/11/1996, 61 FR 9639 |
NR 487.04 | Exemptions | 6/1/1995 | May 1995, No. 473 | 3/11/1996, 61 FR 9639 |
NR 487.05 | Registration | 6/1/1995 | May 1995, No. 473 | 3/11/1996, 61 FR 9639 |
NR 487.06 | Clean fuel fleet annual compliance plan | 6/1/1995 | May 1995, No. 473 | 3/11/1996, 61 FR 9639 |
NR 487.07 | Annual compliance plan submittal deadline | 6/1/1995 | May 1995, No. 473 | 3/11/1996, 61 FR 9639 |
NR 487.08 | Annual compliance plan review, approval and disapproval process | 6/1/1995 | May 1995, No. 473 | 3/11/1996, 61 FR 9639 |
NR 487.09 | Clean fuel fleet acquisition credit program | 6/1/1995 | May 1995, No. 473 | 3/11/1996, 61 FR 9639 |
NR 487.10 | Transportation control measure exemptions for clean fuel fleet vehicles | 6/1/1995 | May 1995, No. 473 | 3/11/1996, 61 FR 9639 |
NR 487.11 | Labeling of clean fuel fleet vehicles | 6/1/1995 | May 1995, No. 473 | 3/11/1996, 61 FR 9639 |
NR 487.12 | Requirement for fuel providers | 6/1/1995 | May 1995, No. 473 | 3/11/1996, 61 FR 9639 |
NR 487.13 | Recordkeeping and monitoring | 6/1/1995 | May 1995, No. 473 | 3/11/1996, 61 FR 9639 |
NR 487.14 | Enforcement procedures and penalties | 6/1/1995 | May 1995, No. 473 | 3/11/1996, 61 FR 9639 |
NR 487.TABLE 1 | Emission Standards for Light-duty Vehicles | 6/1/1995 | May 1995, No. 473 | 3/11/1996, 61 FR 9639 |
NR 487.TABLE 2 | Emission Standards for Heavy-duty Vehicles | 6/1/1995 | May 1995, No. 473 | 3/11/1996, 61 FR 9639 |
NR 487.TABLE 3 | Acquisition Credit Generation—Vehicle Equivalent for LDVs and LDTs With Purchase or More Clean Fuel Fleet Vehicles than Required by the Mandate | 6/1/1995 | May 1995, No. 473 | 3/11/1996, 61 FR 9639 |
NR 487.TABLE 4 | Acquisition Credit Generation Vehicle Equivalent for LDVs and LDTs With Purchase of a ULEV or ZEV to Meet the Mandate | 6/1/1995 | May 1995, No. 473 | 3/11/1996, 61 FR 9639 |
NR 487.TABLE 5 | Vehicle Equivalent for LDVs and LDTs Credit Needed in lieu of Purchasing a LEV to meet the Mandate | 6/1/1995 | May 1995, No. 473 | 3/11/1996, 61 FR 9639 |
NR 487.TABLE 6 | Acquisition Credit Generation—Vehicle Equivalent for HDVs With Purchase of More Clean Fuel Fleet Vehicles than Required by the Mandate | 6/1/1995 | May 1995, No. 473 | 3/11/1996, 61 FR 9639 |
NR 487.TABLE 7 | Acquisition Credit Generation—Vehicle Equivalent for HDVs With Purchase of a ULEV or a ZEV to Meet the Mandate | 6/1/1995 | May 1995, No. 473 | 3/11/1996, 61 FR 9639 |
NR 487.TABLE 8 | Vehicle Equivalent for HDV Credit Needed in Lieu of Purchasing a LEV to Meet the Mandate | 6/1/1995 | May 1995, No. 473 | 3/11/1996, 61 FR 9639 |
NR 489—Conformity of General Federal Actions to State Implementation Plans
NR 489 | CONFORMITY OF GENERAL FEDERAL ACTIONS TO STATE IMPLEMENTATION PLANS | 10/1/1995 | Sep 1995, No. 477 | 7/29/1996, 61 FR 39329 |
NR 489.01 | Purpose | 10/1/1995 | Sep 1995, No. 477 | 7/29/1996, 61 FR 39329 |
NR 489.02 | Definitions | 10/1/1995 | Sep 1995, No. 477 | 7/29/1996, 61 FR 39329 |
NR 489.03 | Applicability | 10/1/1995 | Sep 1995, No. 477 | 7/29/1996, 61 FR 39329 |
NR 489.04 | Conformity analysis | 10/1/1995 | Sep 1995 No. 477 | 7/29/1996, 61 FR 39329 |
NR 489.05 | Reporting requirements | 10/1/1995 | Sep 1995, No. 477 | 7/29/1996, 61 FR 39329 |
NR 489.06 | Public participation and consultation | 10/1/1995 | Sep 1995, No. 477 | 7/29/1996, 61 FR 39329 |
NR 489.07 | Frequency of conformity determinations | 10/1/1995 | Sep 1995, No. 477 | 7/29/1996, 61 FR 39329 |
NR 489.08 | Criteria for determining conformity of general federal actions | 10/1/1995 | Sep 1995, No. 477 | 7/29/1996, 61 FR 39329 |
NR 489.09 | Procedures for conformity determinations of general federal actions | 10/1/1995 | Sep 1995, No. 477 | 7/29/1996, 61 FR 39329 |
NR 489.10 | Mitigation of air quality impacts | 10/1/1995 | Sep 1995, No. 477 | 7/29/1996, 61 FR 39329 |
NR 489.11 | Savings provision | 10/1/1995 | Sep 1995, No. 477 | 7/29/1996, 61 FR 39329 |
NR 490—Procedures for Noncontested Case Public Hearings
NR 490.01 | Applicability; purpose | 1/1/1994 | Dec 1993, No. 456 | 1/18/1995, 60 FR 3538 |
NR 490.02 | Definitions | 1/1/1994 | Dec 1993, No. 456 | 1/18/1995, 60 FR 3538 |
NR 490.025 | Form and service of request | 1/1/1994 | Dec 1993, No. 456 | 1/18/1995, 60 FR 3538 |
NR 490.03 | Notice of hearing | 1/1/1994 | Dec 1993, No. 456 | 1/18/1995, 60 FR 3538 |
NR 490.04 | Conduct of hearing | 1/1/1994 | Dec 1993, No. 456 | 1/18/1995, 60 FR 3538 |
NR 490.05 | Written comments | 1/1/1994 | Dec 1993, No. 456 | 1/18/1995, 60 FR 3538 |
NR 492—Department Review Times
NR 492.03 | Review Times | 5/1/2013 | April 2013, No. 688 | 10/29/2024, 89 FR 85857 |
NR 493—Air Pollution Episode Levels and Episode Emission Control Action Programs
NR 493.02 | Definitions | 12/1/1999 | Nov 1999, No. 527 | 10/29/2024, 89 FR 85857 |
NR 493.03 | Episode levels | 12/1/1999 | Nov 1999, No. 527 | 10/29/2024, 89 FR 85857 |
NR 493.04 | Emission control action programs | 12/1/1999 | Nov 1999, No. 527 | 10/29/2024, 89 FR 85857 |
NR 493.05 | Episode orders | 12/1/1999 | Nov 1999, No. 527 | 10/29/2024, 89 FR 85857 |
NR 494—Enforcement and Penalties for Violation of Air Pollution Control Provisions
NR 494.03 | Procedure | 2/1/1993 | Jan 1993, No. 445 | 8/13/1993, 58 FR 43080 |
NR 494.05 | Penalties | 2/1/1993 | Jan 1993, No. 445 | 8/13/1993, 58 FR 43080 |
NR 499—Training and Certification Requirements for Solid Waste Treatment Facility Operators
NR 499.06 | Certification levels | 1/1/1996 | Dec 1995, No. 480 | 5/27/1999, 64 FR 28745 | Only (2)(intro.), (2)(e) and (2)(g).
NR 499.07 | Solid waste treatment facility operator initial training program requirements | 1/1/1996 | Dec 1995, No. 480 | 5/27/1999, 64 FR 28745 | Only (2)(intro.), (2)(a) and (2)(b)(intro.).
Statutes
Chapter 15—Structure of the Executive Branch
15.347 | Same; councils | 10/4/2023 | Updated 21-22 Wis. Stats | 10/29/2024, 89 FR 85857 | Only (8) Small Business Environmental Council.
Chapter 110—Motor Vehicles
110.20 | Motor vehicle emission inspection and maintenance program | 10/4/2023 | Updated 21-22 Wis. Stats | 10/29/2024, 89 FR 85857 |
Chapter 285—Air Pollution
285.01 | Definitions | 10/4/2023 | Updated 21-22 Wis. Stats | 10/29/2024, 89 FR 85857 | Except (17m), (21), (28), (33), (35), (38), (39), (40).
285.11 | Air pollution control; Department duties | 10/4/2023 | Updated 21-22 Wis. Stats | 10/29/2024, 89 FR 85857 | Except (12), (13), (15), (16), (17), (18), and (19).
285.13 | Air pollution control: department powers | 10/4/2023 | Updated 21-22 Wis. Stats | 10/29/2024, 89 FR 85857 | Except (7).
285.17 | Classification, reporting, monitoring and record keeping | 10/4/2023 | Updated 21-22 Wis. Stats | 10/29/2024, 89 FR 85857 | Only (1).
285.19 | Inspections | 10/4/2023 | Updated 21-22 Wis. Stats | 10/29/2024, 89 FR 85857 |
285.21 | Ambient air quality standards and increments | 10/4/2023 | Updated 21-22 Wis. Stats | 10/29/2024, 89 FR 85857 | Except (4).
285.23 | Identification of nonattainment areas | 10/4/2023 | Updated 21-22 Wis. Stats | 10/29/2024, 89 FR 85857 | Except (6).
285.30 | Motor vehicle emissions limitations; inspections | 10/4/2023 | Updated 21-22 Wis. Stats | 10/29/2024, 89 FR 85857 |
285.31 | Gasoline vapor recovery—Termination of Requirements | 10/4/2023 | Updated 21-22 Wis. Stats | 10/29/2024, 89 FR 85857 | Only (5).
285.33 | Employee trip reduction program | 10/4/2023 | Updated 21-22 Wis. Stats | 10/29/2024, 89 FR 85857 | Only (1).
285.35 | Clean fuel fleet program | 10/4/2023 | Updated 21-22 Wis. Stats | 10/29/2024, 89 FR 85857 |
285.60 | Air pollution control permits | 10/4/2023 | Updated 21-22 Wis. Stats | 10/29/2024, 89 FR 85857 | Except (1)(b)2., (2g), (5m), (6)(b) and (c), (8), (9), (10) and (11).
285.61 | Construction permit application and review | 10/4/2023 | Updated 21-22 Wis. Stats | 10/29/2024, 89 FR 85857 | Except (5)(a) and (b), (10) and (11).
285.62 | Operation permit; application, review and effect | 10/4/2023 | Updated 21-22 Wis. Stats | 10/29/2024, 89 FR 85857 |
285.63 | Criteria for Permit Approval | 10/4/2023 | Updated 21-22 Wis. Stats | 10/29/2024, 89 FR 85857 | Except (11).
285.65 | Permit conditions | 10/4/2023 | Updated 21-22 Wis. Stats | 10/29/2024, 89 FR 85857 |
285.66 | Permit duration and renewal | 10/4/2023 | Updated 21-22 Wis. Stats | 10/29/2024, 89 FR 85857 |
285.68 | Failure to adopt rule or issue permit or exemption | 10/4/2023 | Updated 21-22 Wis. Stats | 10/29/2024, 89 FR 85857 |
285.69 | Fees | 10/4/2023 | Updated 21-22 Wis. Stats | 10/29/2024, 89 FR 85857 | Except (1)(c), (1d), (2)(a), (c) intro, (c)2, (d) and (e), (2e), (2m), (3), (5), (6), and (7).
285.79 | Small business stationary source technical and environmental compliance assistance program | 10/4/2023 | Updated 21-22 Wis. Stats | 10/29/2024, 89 FR 85857 |
285.81 | Hearings on certain air pollution actions | 10/4/2023 | Updated 21-22 Wis. Stats | 10/29/2024, 89 FR 85857 | Except (1m) and (4).
285.83 | Violations: enforcement | 10/4/2023 | Updated 21-22 Wis. Stats | 10/29/2024, 89 FR 85857 | Except (2).
285.87 | Penalties for violations relating to air pollution | 10/4/2023 | Updated 21-22 Wis. Stats | 10/29/2024, 89 FR 85857 | Except (2).
Chapter 299—General Environmental Provisions
299.01 | Definitions | 10/4/2023 | Updated 21-22 Wis. Stats | 10/29/2024, 89 FR 85857 | Only (4) “Environmental pollution”.
299.95 | Enforcement; duty of department of justice; expenses | 10/4/2023 | Updated 21-22 Wis. Stats | 10/29/2024, 89 FR 85857 |
Chapter Trans 131—Motor Vehicle Inspection And Maintenance Program (MVIP)
Trans 131.01 | Purpose and scope | 8/1/2023 | July 2023, No. 811 | 10/29/2024, 89 FR 85857 |
Trans 131.02 | Definitions | 8/1/2023 | July 2023, No. 811 | 10/29/2024, 89 FR 85857 |
Trans 131.03 | Emission inspection and reinspection | 8/1/2023 | July 2023, No. 811 | 10/29/2024, 89 FR 85857 |
Trans 131.04 | Waiver of compliance | 8/1/2023 | July 2023, No. 811 | 10/29/2024, 89 FR 85857 |
Trans 131.05 | Waiver emission equipment inspection | 8/1/2023 | July 2023, No. 811 | 10/29/2024, 89 FR 85857 |
Trans 131.06 | Inspection compliance | 8/1/2023 | July 2023, No. 811 | 10/29/2024, 89 FR 85857 |
Trans 131.07 | Voluntary inspections | 8/1/2023 | July 2023, No. 811 | 10/29/2024, 89 FR 85857 |
Trans 131.08 | Letter of temporary exemption from emission inspection requirements | 8/1/2023 | July 2023, No. 811 | 10/29/2024, 89 FR 85857 |
Trans 131.09 | Temporary operating permits | 8/1/2023 | July 2023, No. 811 | 10/29/2024, 89 FR 85857 |
Trans 131.10 | Reciprocity | 8/1/2023 | July 2023, No. 811 | 10/29/2024, 89 FR 85857 |
Trans 131.11 | Audits of inspection facilities | 8/1/2023 | July 2023, No. 811 | 10/29/2024, 89 FR 85857 |
Trans 131.12 | Equipment specifications and quality control | 8/1/2023 | July 2023, No. 811 | 10/29/2024, 89 FR 85857 |
Trans 131.13 | Licensing of inspectors | 8/1/2023 | July 2023, No. 811 | 10/29/2024, 89 FR 85857 |
Trans 131.14 | Remote sensing | 8/1/2023 | July 2023, No. 811 | 10/29/2024, 89 FR 85857 |
Trans 131.15 | Performance monitoring of repair facilities | 8/1/2023 | July 2023, No. 811 | 10/29/2024, 89 FR 85857 |
Trans 131.16 | Automotive emission repair technician training | 8/1/2023 | July 2023, No. 811 | 10/29/2024, 89 FR 85857 |
Trans 131.17 | Notification of inspection requirements | 8/1/2023 | July 2023, No. 811 | 10/29/2024, 89 FR 85857 |

(d) EPA approved state source-specific requirements.

Table 2 to Paragraph (d)—EPA-Approved Wisconsin Source-Specific Requirements
Name of source | Order/permit No. | State date | EPA approval date | Comments
A.O. Smith/Automotive Products Company | AO 86-241012970-J01 | 9/29/1986 | 5/21/1993, 58 FR 29537 | Limiting the emissions and operation of the fuel burning equipment at the facility in Milwaukee, Milwaukee County, Wisconsin.
Ahlstrom-Munksjö Rhinelander LLC | CP 15-DMM-128-R1 | 3/25/2021 | 10/22/2021, 86 FR 58577 | Elements of the permit including the permit cover sheet, SO2 emissions limitations for Ahlstrom-Munksjö (Conditions A.3.a.(1)-(3)), a compliance demonstration (Conditions A.3.b.(1)-(3)), reference test methods, recordkeeping and monitoring requirements (Conditions A.3.c.(1)-(5) and A.3.c.(7)-(9)), and the effective date (Condition YYY.1.a.(1)).
American Can Company | AO 86-241014730-J01 | 9/30/1986 | 5/21/1993, 58 FR 29537 | Limiting the emissions and operation of Boilers #20, 21, and 22 at the facility in Milwaukee, Milwaukee County, Wisconsin.
American Motors Corporation, Milwaukee Manufacturing Plant | AO 87-241007360-J01 | 10/28/1987 | 5/21/1993, 58 FR 29537 | Limiting the emissions and operation of Boilers #20, 21, 22, 23, and 24 at the facility in Milwaukee, Milwaukee County, Wisconsin.
Appleton Papers, Inc. | AO 86-445038550-J01 | 10/27/1986 | 5/21/1993, 58 FR 29537 | Limiting the emissions and operation of Boiler #22 at the facility in Appleton, Outagamie County, Wisconsin.
Berlin Foundry Company | AO 86-424017550-J02 | 3/2/1987 | 5/21/1993, 58 FR 29537 | Limiting the emissions and operation of fuel burning equipment at the facility in Berlin, Green Lake County, Wisconsin.
Berlin Tanning and Manufacturing Company | AO 86-424021180-N01 | 9/30/1986 | 5/21/1993, 58 FR 29537 | Limiting the emissions and operation of fuel burning equipment at the facility in Berlin, Green Lake County, Wisconsin.
Borden Chemical | MIA-12-DAA-83-60-208 | 11/2/1983 | 5/21/1993, 58 FR 29537 | Limiting the emissions and operation of Boiler #20 at the facility in Sheboygan, Sheboygan County, Wisconsin.
Brunswick Corporation d.b.a. Mercury Marin | AO AM-91-71 | 11/22/1991 | 10/8/1992, 57 FR 46309
Carnation Company—Pet Food and Cereal Division | AO 86-128003700-N01 | 9/23/1986 | 5/21/1993, 58 FR 29537 | Limiting the emissions and operation of Boilers #21 and 22 at the facility in Jefferson, Jefferson County, Wisconsin.
CLM Corporation | AO NWD-89-08 | 12/20/1989 | 8/24/1994, 59 FR 43481
CLM Corporation | AO AM-91-816A | 6/13/1991 | 8/24/1994, 59 FR 43481
Cook Composites and Polymers Company | Decision AM-05-200 | 2/24/2005 | 3/16/2007, 72 FR 12565 | Establishes VOC RACT for synthetic resin manufacturing.
Dairyland Power Cooperative | AO 86-122003640-J01 | 9/30/1986 | 5/21/1993, 58 FR 29537 | Limiting the emissions and operation of Boilers #20 and 21 at the facility in Cassville, Grant County, Wisconsin.
Dairyland Power Cooperative | Permit 87-JBG-079 | 3/9/1988 | 5/21/1993, 58 FR 29537 | Limiting the emissions and operation of Boiler #20 at the facility in Genoa, Vernon County, Wisconsin.
Del Monte Corporation | AO 86-750011350-J01 | 9/16/1986 | 5/21/1993, 58 FR 29537 | Limiting the emissions and operation of Boilers #01 and 02 at the facility in Plover, Portage County, Wisconsin.
Eaton Corporation/Specific Industry Control Division | AO 86-241016710-J01 | 9/29/1986 | 5/21/1993, 58 FR 29537 | Limiting the emissions and operation of Boilers #20, 21, 22, at the facility in Milwaukee, Milwaukee County, Wisconsin.
Flint Ink | Consent Order AM-00-01 | 9/7/2000 | 11/13/2001, 66 FR 56931 | The Order establishes Reasonably Available Control Requirements for ink manufacturing operations.
Fox River Paper Company | AO 86-445039100-J01 | 12/23/1986 | 5/21/1993, 58 FR 29537 | Limiting the emissions and operation of Boiler #21 at the facility in Appleton, Outagamie County, Wisconsin.
Frank Brothers, Incorporated | AO 86-154008030-J01 | 9/29/1986 | 5/21/1993, 58 FR 29537 | Limiting the emissions and operation of fuel burning equipment at the facility in Milton, Rock County, Wisconsin.
FWD Corporation | AO 87-469034390-J01 | 1/22/1987 | 5/21/1993, 58 FR 29537 | Limiting the emissions and operation of Boilers #21, 22, and 23 at the facility in Clintonville, Waupaca County, Wisconsin.
G. Heileman Brewing Company | AO 86-632028430-J01 | 9/29/1986 | 5/21/1993, 58 FR 29537 | Limiting the emissions and operation of Boilers #20, 21, 24, and 25 at the facility in La Crosse, La Crosse County, Wisconsin.
GenCorp Inc.—Green Bay facility | Permit 95-CHB-407 | 8/29/1995 | 8/29/1996, 61 FR 45327 | The permit condition requiring a pressure vessel storage tank with a vapor balance system for the styrene-butadiene-acrylonitrile latex manufacturing process.
General Electric Medical Systems | Consent Order AM-96-200 | 2/20/1996 | 7/17/1996, 61 FR 37216 | September 15, 1995 letter from Michael S. Davis, Manager—Air and Chemical Management Programs, General Electric Medical Systems to Denese Helgeland, Wisconsin Department of Natural Resources, along with the enclosed system diagram. (This letter is referenced in Consent Order AM-96-200.)
General Motors Corporation | AO 86-154002860-J01 | 9/29/1986 | 5/21/1993, 58 FR 29537 | Limiting the emissions and operation of Boilers #21, 22, 23, 24, and 25 at the facility in Janesville, Rock County, Wisconsin.
George Hormel and Company | AO 86-154004290-N01 | 9/29/1986 | 5/21/1993, 58 FR 29537 | Limiting the emissions and operation of Boilers #20, 21 and 22 at the facility in Beloit, Rock County, Wisconsin.
Georgia-Pacific Consumer Products LP | FID #405032870 | 6/8/2012 | 8/7/2012, 77 FR 46952
Gilbert Paper Company | AO 86-471030560-J01 | 10/29/1986 | 5/21/1993, 58 FR 29537 | Limiting the emissions and operation of Boilers #22, 23, 24, and 25 at the facility in Menasha, Winnebago County, Wisconsin.
Golden Guernsey Dairy | AO 86-642028860-N01 | 12/23/1986 | 5/21/1993, 58 FR 29537 | Limiting the emissions and operation of fuel burning equipment at the facility in Sparta, Monroe County, Wisconsin.
Insinkerator | AO AM-20-01 | 1/9/2020 | 9/16/2020, 85 FR 57729 | Facility located in Kenosha, Wisconsin.
Iroquois Foundry Company | AO 86-123002440-N01 | 9/29/1986 | 5/21/1993, 58 FR 29537 | Limiting the emissions and operation of fuel burning equipment at the facility in Browntown, Green County, Wisconsin.
J.I. Case | EOP-10-DLJ-82-52-073 | 1/18/1983 | 5/21/1993, 58 FR 29537 | Limiting the emissions and operation of Boilers #21 and 22 at the facility in Racine, Racine County, Wisconsin.
John Deere Horicon Works | AO 86-114003340-N01 | 9/23/1986 | 5/21/1993, 58 FR 29537 | Limiting the emissions and operation of fuel burning equipment at the facility in Horicon, Dodge County, Wisconsin.
Kieffer & Co. Inc | AO AM-20-02 | 2/4/2020 | 7/10/2020, 85 FR 41405 | Facility located in Sheboygan, Wisconsin.
Kimberly Clark-Neenah Paper and Badger Globe Division | AO 86-471031000-J01 | 11/25/1986 | 5/21/1993, 58 FR 29537 | Limiting the emissions and operation of Boilers #21 and 22 at the facility in Neenah, Winnebago County, Wisconsin.
Kohler Power Systems | AO AM-20-03 | 2/28/2020 | 7/10/2020, 85 FR 41405 | Facility located in Mosel, Sheboygan County, Wisconsin.
Koppers Company | MIA-10-KJC-83-16-044 | 7/7/1983 | 5/21/1993, 58 FR 29537 | Limiting the emissions and operation of Boiler #1 at the facility in Superior, Douglas County, Wisconsin.
Lionite Hardboard | AO 86-851009940-J01 | 9/30/1986 | 5/21/1993, 58 FR 29537 | Limiting the emissions and operation of Boiler #20 at the facility in Phillips, Price County, Wisconsin.
Lynn Protein | MIN-04-80-10-028 | 6/19/1981 | 5/21/1993, 58 FR 29537 | Limiting the operation of Boiler #21 at the facility in Clark County, Wisconsin.
Manitowoc Company, Inc. | MIA-10-DFS-82-36-101 | 12/22/1982 | 5/21/1993, 58 FR 29537 | Limiting the emissions and operation of Boiler #23 at the facility in Manitowoc, Manitowoc County, Wisconsin.
Manitowoc Company, Inc. | EOP-10-DFS-82-36-102 | 1/12/1983, 8/7/1987 | 5/21/1993, 58 FR 29537 | Limiting the emissions and operation of Boilers #20, 21, and 22 at the facility in Manitowoc, Manitowoc County, Wisconsin.
Manitowoc Company, Inc., South Works Facility | AO 86-436041870-J01 | 11/25/1986 | 5/21/1993, 58 FR 29537 | Limiting the emissions and operation of Boilers #20 and 21 at the facility in Manitowoc, Manitowoc County, Wisconsin.
Milwaukee County Department of Health and Human Services | AO 86-241027050-J01 | 9/18/1986 | 5/21/1993, 58 FR 29537 | Limiting the emissions and operation of Boilers #20, 21, 22, and 23, at the facility in Milwaukee, Milwaukee County, Wisconsin.
Murphy Oil USA | Permit 95-SDD-120-OP | 2/17/1999 | 9/13/2000, 65 FR 55196
Neenah Paper Company | Permit 85-RV-013 | 7/17/1985 | 5/21/1993, 58 FR 29537 | Limiting the emissions and operation of Boiler #01 at the facility in Stevens Point, Portage County, Wisconsin.
Nekoosa Papers, Incorporated-Port Edwards Mill, Inc | Permit 87-NEB-701 | 12/23/1987 | 5/21/1993, 58 FR 29537 | Limiting the emissions and operation of Boilers #20, 21, 24, and 25; as well as the sulfite recovery furnace at the facility in Port Edwards, Wood County, Wisconsin.
Northern Engraving Corporation (NEC) | Environmental Cooperative Agreement | 6/10/2002 | 1/24/2003, 68 FR 3404 | The following provisions: Section XI of the Environmental Cooperative Agreement (Operational Flexibility and Variances) and Part IA. Of Appendix C.3: Specific Permit Conditions under the Environmental Cooperative Agreement for NEC's Sparta facility.
Northern Engraving Corporation's (NEC) Galesville facility | Permit NO. 662008930-F01 | 4/26/2002 | 10/5/2004, 69 FR 59546 | Specific Permit Conditions under the Environmental Cooperative Agreement contained in Part I.A.
Northern Engraving Corporation's (NEC) West Salem facility | Permit NO. 632024800-F01 | 6/23/2003 | 10/5/2004, 69 FR 59546 | Specific Permit Conditions under the Environmental Cooperative Agreement contained in Part I.A
Northern Wisconsin Center for Developmentally Disabled | AO 86-609037660-J01 | 9/29/1986 | 5/21/1993, 58 FR 29537 | Limiting the emissions and operation of Boilers #20, 21, 22, and 23 at the facility in Chippewa Falls, Chippewa County, Wisconsin.
OMC Evinrude | AO 86-241084690-J01 | 9/30/1986 | 5/21/1993, 58 FR 29537 | Limiting the emissions and operation of Boilers #20, 21, and 22, at the facility in Milwaukee, Milwaukee County, Wisconsin.
Oscar Mayer Foods Corporation | AO | 8/1/1986 | 5/21/1993, 58 FR 29537 | Limiting the emissions from all sources at the facility in Madison, Dane County, Wisconsin.
Owens-Illinois Tomahawk and Timber STS, Inc | Permit 735008010-J01 | 6/16/1987 | 5/21/1993, 58 FR 29537 | Limiting the emissions and operation of Boilers #24, 25, 27, 28, and 29 at the facility in Tomahawk, Lincoln County, Wisconsin.
Patrick Cudahy, Incorporated | AO 86-241009670-N01 | 9/30/1986 | 5/21/1993, 58 FR 29537 | Limiting the emissions and operation of Boilers #20, 22, and 24, at the facility in Cudahy, Milwaukee County, Wisconsin.
Peter Cooper Corporation | Permit 86-MJT-037 | 9/23/1986 | 5/21/1993, 58 FR 29537 | Limiting the emissions and operation of Boilers #20, 21, 22,23, and 24 at the facility in Oak Creek, Milwaukee County, Wisconsin.
S.C. Johnson and Son, Inc. | AO 86-252006370-J01 | 10/13/1986 | 5/21/1993, 58 FR 29537 | Limiting the emissions and operation of Boilers #20, 21, 22, and 23 at the facility in Sturtevant, Racine County, Wisconsin.
Sanger B. Powers Correctional Center | AO 87-445009950-N01 | 5/7/1987 | 5/21/1993, 58 FR 29537 | Limiting the emissions and operation of Boilers #1 and 2 at the facility in Oneida, Outagamie County, Wisconsin.
Seneca Foods Corporation | 603007790-N01 | 6/12/1987 | 5/21/1993, 58 FR 29537 | Limiting the emissions and operation of Boilers #10 and 11 at the facility in Cumberland, Barron County, Wisconsin.
Serigraph, Inc. | Decision AM-04-200 | 11/24/2004 | 10/14/2005, 70 FR 60010
Southern Wisconsin Center | AO 86-252012530-J01 | 9/29/1986 | 5/21/1993, 58 FR 29537 | Limiting the emissions and operation of Boilers #20, 21, 22 and 23 at the facility in Union Grove, Racine County, Wisconsin.
Taycheedah Correctional Institute | AO 86-420044680-N01 | 9/30/1986 | 5/21/1993, 58 FR 29537 | Limiting the emissions and operation of Boiler #20 at the facility in Taycheedah, Fond du Lac County, Wisconsin.
Thilmany Pulp and Paper Company | 86-SJK-072 | 7/28/1987 | 5/21/1993, 58 FR 29537 | Limiting the emissions and operation of Boilers #07, 08, 09, 10, and 11 at the facility in Kaukauna, Outagamie County, Wisconsin.
Trane Company-Main Complex | AO 86-632028210-J01 | 11/26/1986 | 5/21/1993, 58 FR 29537 | Limiting the emissions and operation of Boilers #20, 21, 22, 23, and 24 at the facility in lacrosse, lacrosse County, Wisconsin.
Trane Company-Plant 6 | AO 86-632023590-J01 | 11/26/1986 | 5/21/1993, 58 FR 29537 | Limiting the emissions and operation of Boilers #20, 21, and 22 at the facility in lacrosse, lacrosse County, Wisconsin.
U.S. Paper Mills Corporation-Menasha Mill Division | AO 86-471031220-J01 | 10/27/1986 | 5/21/1993, 58 FR 29537 | Limiting the emissions and operation of Boiler #21 at the facility in Menasha, Winnebago County, Wisconsin.
Uniroyal Engineered Products | Consent Order AM-99-900 | 2/17/2000 | 6/8/2000, 65 FR 36351
Uniroyal Tire Company, Incorporated | AO 86-618022350-J01 | 9/29/1986 | 5/21/1993, 58 FR 29537 | Limiting the emissions and operation of Boilers #20, 21, and 22 at the facility in Eau Claire, Chippewa County, Wisconsin.
Universal Foods Corporation | AO 86-114004770-N01 | 9/23/1986 | 5/21/1993, 58 FR 29537 | Limiting the emissions and operation of Boilers #21 and 22 at the facility in Juneau, Dodge County, Wisconsin.
University of Wisconsin at Milwaukee, Central Heating Plant | AO 86-241099910-J01 | 10/5/1986 | 5/21/1993, 58 FR 29537 | Limiting the emissions and operation of Boilers #20A, 20B, 20C, and 21 at the facility in Milwaukee, Milwaukee County, Wisconsin.
University of Wisconsin Eau Claire Heating Plant | AO 86-618027080-J01 | 9/29/1986 | 5/21/1993, 58 FR 29537 | Limiting the emissions and operation of Boilers #20 and 21 at the facility in Eau Claire, Chippewa County, Wisconsin.
University of Wisconsin, Charter Street Heating Plant | AO | 8/6/1986 | 5/21/1993, 58 FR 29537 | Limiting the emissions from all sources at the facility in Madison, Dane County, Wisconsin.
University of Wisconsin-LaCrosse | AO 86-632028100-J01 | 9/29/1986 | 5/21/1993, 58 FR 29537 | Limiting the emissions and operation of fuel burning equipment at the facility in lacrosse, lacrosse County, Wisconsin.
University of Wisconsin-Parkside Heating Plant | AO 86-230008570-N01 | 9/29/1986 | 5/21/1993, 58 FR 29537 | Limiting the emissions and operation of Boilers #20, 21, 22, and 23 at the facility in Kenosha, Kenosha County, Wisconsin.
USG Interiors LLC | AO AM-16-01 | 1/31/2017 | 7/7/2017, 82 FR 31458 | Walworth facility.
Vilter Manufacturing Corporation | AO 86-241025840-J01 | 9/30/1986 | 5/21/1993, 58 FR 29537 | Limiting the emissions and operation of Boilers #20, and 21, at the facility in Milwaukee, Milwaukee County, Wisconsin.
Waste Research and Reclamation Company | AO 86-618026530-N01 | 9/29/1986 | 5/21/1993, 58 FR 29537 | Limiting the emissions and operation of Boilers #20 and 21 at the facility in Eau Claire, Chippewa County, Wisconsin.
Western Publishing Company | AO 86-252005050-J01 | 9/30/1986 | 5/21/1993, 58 FR 29537 | Limiting the emissions and operation of Boilers #20A, 20B, and 21 at the facility in Racine, Racine County, Wisconsin.
Weyerhaeuser Company | Consent Order AM-01-600 | 8/16/2001 | 5/29/2002, 67 FR 37328
Wisconsin Dairies Cooperative | AO 86-649028490-N01 | 9/30/1986 | 5/21/1993, 58 FR 29537 | Limiting the emissions and operation of Boilers #20, 21, and 22 at the facility in Clayton, Polk County, Wisconsin.
Wisconsin Electric Power Company | Environmental Cooperative Agreement | 2/5/2001 | 11/8/2001, 66 FR 56447 | The following provisions: Section XII.C. Permit Streamlining concerning Construction Permit Exemption for Minor Physical or Operational Changes. These provisions establish a construction permit exemption for minor physical or operational changes at the Wisconsin Electric Power Company Pleasant Prairie Power Plant.
Wisconsin Power & Light Columbia Energy Center | CP 11-POY-123 | 11/11/2011 | 8/7/2012, 77 FR 46952
Wisconsin Power and Light Company | 86-LMW-406 | 9/18/1986 | 5/21/1993, 58 FR 29537 | Limiting emissions and operation of Unit 2 at facility in Portage, Columbia County, Wisconsin.
Wisconsin Power and Light Company | Permit 86-SJK-71A | 5/25/1988 | 5/21/1993, 58 FR 29537 | Limiting the emissions and operation of Boilers #23, and 24 at the facility in Sheboygan, Sheboygan County, Wisconsin.
Wisconsin Public Service Corporation's Weston Plant, | Consent Order AM-01-601 | 8/16/2001 | 5/29/2002, 67 FR 37328

(e) EPA approved nonregulatory and quasi-regulatory provisions.

Table 3 to Paragraph (e)—EPA-Approved Wisconsin Nonregulatory and Quasi-Regulatory Provisions
Name of nonregulatory SIP provision | Applicable geographic or nonattainment area | State submittal date | EPA approval date | Comments
Control Strategy (IPP) | Southeast Wisconsin Interstate | 3/3/1972 | 3/2/1976, 41 FR 8956 |
Air Quality Monitoring Network | Statewide | 4/18/1980, 9/15/1980 | 6/9/1981, 46 FR 30496 |
PM-10 Committal SIPs | Group II areas within the Cities of DePere, Madison, Milwaukee, Superior, and Waukesha | 4/30/1988 and 3/30/1990 | 8/14/1990, 55 FR 33118 |
Photochemical assessment ambient monitoring system (PAMS) | Statewide | 11/15/1993 | 3/18/1994, 59 FR 12851 |
Transportation Conformity | Statewide | 8/1/2013 | 2/27/2014, 79 FR 10995 |
Attainment Plans
Carbon Monoxide | Green Bay and Madison areas | 7/12/1979, 9/4/1979, 2/28/1980, 8/12/1980, 9/25/1980, 11/4/1980 and 4/9/1981 | 8/20/1981, 46 FR 42269 | Brown and Dane Counties.
Carbon Monoxide | Milwaukee area | 3/8/1983 | 3/9/1984, 49 FR 8920 | Kenosha, Milwaukee, Ozaukee, Racine, Walworth, Washington, and Waukesha Counties.
Lead NAAQS (1978) | Statewide | 9/20/1983, 2/14/1984, and 3/14/1984 | 11/6/1984, 49 FR 44287 |
Ozone 1-Hour | Green Bay and Madison areas | 7/12/1979, 9/4/1979, 2/28/1980, 8/12/1980, 9/25/1980, 11/4/1980 and 4/9/1981 | 8/20/1981, 46 FR 42269 | Brown and Dane Counties.
Ozone 1-Hour | Milwaukee area | 3/8/1983 | 3/9/1984, 49 FR 8920 | Kenosha, Milwaukee, Ozaukee, Racine, Walworth, Washington, and Waukesha Counties.
Ozone 1-Hour | Statewide | 1/24/1985 | 6/28/1985, 50 FR 26735 | Test Methods for Petroleum Dry Cleaning Sources incorporated as part of State's “Air Management Operations Handbook” and element of State's VOC RACT program.
Ozone 1-Hour | Kewaunee, Manitowoc, Sheboygan and Milwaukee areas | 6/30/1994 | 7/28/1995, 60 FR 38722 | Facilities subject to the post-enactment CTG source categories listed in Appendix E to the General Preamble. Includes cleanup solvents, offset lithography, plastic parts coating, and wood furniture coating facilities. The Milwaukee area includes Kenosha, Milwaukee, Ozaukee, Racine, Washington, and Waukesha Counties.
Ozone 1-Hour | Door, Kenosha, Kewaunee, Manitowoc, Milwaukee, Ozaukee, Racine, Sheboygan, Walworth, Washington, and Waukesha Counties | 7/13/1994 | 1/26/1996, 61 FR 2428 | NOX RACT, NSR, vehicle IM, and general conformity exemptions.
Ozone 1-Hour | Milwaukee and Manitowoc | 7/10/1996 | 2/3/1998, 63 FR 5460 |
Ozone 1-Hour | Milwaukee-Racine | 12/11/1997, 8/5/1999, 1/31/2000, 3/3/2000, and 2/21/2001 | 10/10/2001, 66 FR 51572 | Post-1996 ROP plan for Kenosha, Milwaukee, Ozaukee, Racine, Washington, and Waukesha Counties.
Ozone 1-Hour | Milwaukee-Racine | 12/27/2000, 5/28/2001, 6/6/2001, and 8/29/2001 | 11/13/2001, 66 FR 56931 | Kenosha, Milwaukee, Ozaukee, Racine, Washington, and Waukesha Counties.
Ozone NAAQS (1997) | Walworth County | 9/8/2000 | 10/26/2000, 65 FR 64142 | Revised motor vehicle emissions budgets.
Ozone NAAQS (1997) | Milwaukee-Racine, WI | 1/31/2003 | 6/20/2003, 68 FR 36917 | Revised motor vehicle emissions budgets for Kenosha, Milwaukee, Ozaukee, Racine, Washington, and Waukesha Counties.
Ozone NAAQS (1997) | Sheboygan County | 1/31/2003 | 6/20/2003, 68 FR 36917 | Revised motor vehicle emissions budgets. Includes Inland and Shoreline Sheboygan Counties.
Ozone NAAQS (2008) | Sheboygan County | 1/16/2015 | 7/6/2015, 80 FR 38400 | Early Progress Plan and motor vehicle emissions budgets. Includes Inland and Shoreline Sheboygan Counties.
Ozone NAAQS (2008) | Chicago-Naperville, IL-IN-WI | 1/16/2015 | 8/23/2016, 81 FR 57463 | Early Progress Plan and motor vehicle emissions budgets for Kenosha County (part).
Ozone NAAQS (2008) | Chicago-Naperville, IL-IN-WI | 8/15/2016, 4/17/2017 and 1/23/2018 | 2/13/2019, 84 FR 3701 | Kenosha County (part).
Ozone NAAQS (2008) | Chicago-Naperville, IL-IN-WI | 12/1/2020 | 3/1/2022, 87 FR 11310 | Kenosha County (part) Serious Plan Elements.
Ozone NAAQS (2008) | Chicago-Naperville, IL-IN-WI and Sheboygan County | 7/19/2018 | 5/3/2019, 84 FR 18989 | NSR requirements for marginal and moderate ozone nonattainment areas.
Ozone NAAQS (2015) | Statewide | 7/27/2021 | 1/19/2022, 87 FR 2719 | NNSR certification.
SO2 NAAQS (2010) | Rhinelander, WI | 1/22/2016, 7/18/2016, 11/29/2016, 3/29/2021 | 10/22/2021, 86 FR 58577 | Oneida County (part)—City of Rhinelander and Crescent, Newbold, Pine Lake, and Pelican Townships.
Maintenance Plans
Ozone 1-Hour | Kewaunee, Sheboygan, and Walworth Counties | 12/15/1995 and 5/15/1996 | 8/26/1996, 60 FR 43668 |
Ozone 1-Hour | Door and Manitowoc Counties | 1/28/2003, 2/5/2003 and 2/27/2003 | 4/17/2003, 68 FR 18883 |
Ozone 1-Hour | Kewaunee County | 1/28/2003, 2/5/2003 and 2/27/2003 | 5/10/2004, 69 FR 25835 | Revised maintenance plan.
Ozone NAAQS (1997) | Kewaunee County | 6/12/2007 | 5/21/2008, 73 FR 29436 |
Ozone NAAQS (1997) | Door and Manitowoc County areas | 9/11/2009 | 7/12/2010, 75 FR 39635 |
Ozone NAAQS (1997) | Milwaukee-Racine | 9/11/2009, 11/16/2011 | 7/31/2012, 77 FR 45252 | Kenosha, Milwaukee, Ozaukee, Racine, Washington, and Waukesha Counties.
Ozone NAAQS (1997) | Door County, Kewaunee County, Manitowoc County, and Milwaukee-Racine areas | 12/13/2019 | 6/16/2020, 85 FR 36342 | 2nd Maintenance Plans.
Ozone NAAQS (2008) | Inland Sheboygan County | 10/9/2019 | 7/10/2020, 85 FR 41400 |
Ozone NAAQS (2008) | Shoreline Sheboygan County | 2/11/2020 | 7/10/2020, 85 FR 41405 |
Ozone NAAQS (2008) | Chicago-Naperville, IL-IN-WI | 12/3/2021 | 4/11/2022, 87 FR 21027 | Kenosha County (part).
Ozone NAAQS (2015) | Door County (part) | 1/27/2020 | 6/10/2020, 85 FR 35377 | Newport State Park Boundary.
Ozone NAAQS (2015) | Manitowoc County | 10/29/2021 | 3/31/2022, 87 FR 18702 |
Ozone NAAQS (2015) | Door County-Revised (part) | 1/5/2022 | 4/29/2022, 87 FR 25410 |
PM2.5 NAAQS (2006) | Milwaukee-Racine, WI | 6/8/2012 | 4/22/2014, 79 FR 22415 | Milwaukee, Racine and Waukesha Counties.
PM2.5 NAAQS (2006) | Milwaukee-Racine, WI | 12/23/2015 | 2/22/2016, 81 FR 8654 | Revised maintenance plan for Milwaukee, Racine and Waukesha Counties.
PM2.5 NAAQS (2006) | Milwaukee-Racine, WI | 4/8/2022 | 7/9/2024, 89 FR 56231 | Second Limited Maintenance Plan for Milwaukee-Racine.
SO2 NAAQS (1971) | Dane County | 6/9/1992 | 5/24/1993, 58 FR 29787 | City of Madison.
SO2 NAAQS (1971) | Milwaukee County | 6/12/1992 | 5/24/1993, 58 FR 29783 | City of Milwaukee.
SO2 NAAQS (1971) | Oneida County | 11/5/1999 | 11/15/2000, 65 FR 68901 | City of Rhinelander.
SO2 NAAQS (1971) | Marathon County | 11/17/2000 | 5/29/2002, 67 FR 37328 | Villages of Rothschild and Weston and Township of Rib Mountain.
SO2 NAAQS (2010) | Rhinelander, WI | 7/28/2021 | 1/12/2022, 87 FR 1685 | Oneida County (part)—City of Rhinelander and Crescent, Newbold, Pine Lake, and Pelican Townships.
Determinations of Attainment
Ozone 1-Hour | Milwaukee-Racine | 7/28/2008 | 4/24/2009, 74 FR 18641 | Determination of attainment of the revoked 1-hour ozone NAAQS for Kenosha, Milwaukee, Ozaukee, Racine, Washington, and Waukesha Counties.
Ozone NAAQS (1997) | Door County |  | 7/12/2010, 75 FR 39635 |
Ozone NAAQS (1997) | Manitowoc County |  | 7/12/2010, 75 FR 39635 |
Ozone NAAQS (1997) | Milwaukee-Racine |  | 3/1/2011, 76 FR 11080 | Kenosha, Milwaukee, Ozaukee, Racine, Washington, and Waukesha Counties.
Ozone NAAQS (1997) | Sheboygan County |  | 3/1/2011, 76 FR 11080 | Includes Inland and Shoreline Sheboygan Counties
Ozone NAAQS (2008) | Inland Sheboygan County |  | 7/15/2019, 84 FR 33699 |
Ozone NAAQS (2008) | Chicago-Naperville, IL-IN-WI |  | 4/11/2022, 87 FR 21027 | Kenosha County (part).
Ozone NAAQS (2015) | Door County (part) |  | 6/10/2020, 85 FR 35377 | Newport State Park Boundary.
Ozone NAAQS (2015) | Door County-Revised (part) |  | 4/29/2022, 87 FR 25410 |
PM-2.5 NAAQS (2006) | Milwaukee-Racine |  | 4/22/2014, 79 FR 22415 | Milwaukee, Racine and Waukesha Counties.
Infrastructure Requirements
Lead NAAQS (2008) | Statewide | 7/26/2012, 7/2/2015 and 8/8/2016 | 2/7/2017, 82 FR 9515 | Fully approved for all CAA elements.
NO2 NAAQS (2010) | Statewide | 6/20/2013, 1/28/2015, 7/2/2015 and 8/8/2016 | 2/7/2017, 82 FR 9515 | Fully approved for all CAA elements.
Ozone NAAQS (1997) | Statewide | 12/12/2007, 1/24/2011, 3/28/2011, 7/2/2015 and 8/8/2016 | 2/7/2017, 82 FR 9515 | Fully approved for all CAA elements except (D)(i)(I).
Ozone NAAQS (2008) | Statewide | 6/20/2013, 1/28/2015, 7/2/2015 and 8/8/2016 | 2/7/2017, 82 FR 9515 | Fully approved for all CAA elements except prong 2 of (D)(i)(I).
Ozone NAAQS (2015) | Statewide | 9/14/2018 and 8/3/2022 | 8/30/2024, 89 FR 70500 | Fully approved for all CAA elements except prong 2 of (D)(i)(I).
PM2.5 NAAQS (1997) | Statewide | 12/12/2007, 1/24/2011, 3/28/2011, 7/2/2015 and 8/8/2016 | 2/7/2017, 82 FR 9515 | Fully approved for all CAA elements except (D)(i)(I).
PM2.5 NAAQS (2006) | Statewide | 1/24/2011, 3/28/2011, 7/2/2015 and 8/8/2016 | 2/7/2017, 82 FR 9515 | Fully approved for all CAA elements except (D)(i)(I).
PM2.5 NAAQS (2012) | Statewide | 7/13/2015 and 8/8/2016 | 7/24/2023, 88 FR 47375 | Fully approved for all CAA elements.
SO2 NAAQS (2010) | Statewide | 6/20/2013, 1/28/2015, 7/2/2015 and 8/8/2016 | 2/7/2017, 82 FR 9515 | Fully approved for all CAA elements except (D)(i)(I).
Negative Declarations
VOC source categories | Statewide | 9/19/1984, 11/7/1984 and 6/6/1986 | 11/24/1986, 51 FR 42221 | Includes: High-density polyethylene, polypropylene, and polystyrene resin manufacturers, Natural gas/gasoline processing plants leaks, and Synthetic organic chemical manufacturing industry sources (SOCMI) leaks and oxidation.
Pre-1990 CTG categories | Statewide | 4/17/1990 and 6/30/1994 | 7/28/1995, 60 FR 38722 | Includes: Leaks from petroleum refinery equipment; Manufacture of synthesized pharmaceutical products; Manufacture of pneumatic rubber tires; Automobile and light duty truck manufacturing; Fire truck and emergency response vehicle manufacturing; Manufacture of high-density polyethylene, polypropylene, and polystyrene resins, a.k.a. polymer manufacturing; Leaks from synthetic organic chemical and polymer manufacturing equipment; Air oxidation processes at synthetic organic chemical manufacturing industries; and Equipment leaks from natural gas/gasoline processing plants.
Post-1990 CTGs not incorporated into Wisconsin Administrative Code | Inland Sheboygan County | 10/9/2019 | 7/10/2020, 85 FR 41400 | Includes: shipbuilding and ship repair (1996), aerospace manufacturing (1997), fiberglass boat manufacturing (2008), miscellaneous industrial adhesives (2008), miscellaneous metal and plastic parts coatings (2008), automobile and light-duty truck assembly coatings (2008), and oil and natural gas industry (2016).
Post-1990 CTGs not incorporated into Wisconsin Administrative Code and non-CTG major sources | Shoreline Sheboygan County | 2/11/2020 | 7/10/2020 85 FR 41405 | Includes: shipbuilding and ship repair (1996), aerospace manufacturing (1997), fiberglass boat manufacturing (2008), miscellaneous industrial adhesives (2008), miscellaneous metal and plastic parts coatings (2008), automobile and light-duty truck assembly coatings (2008), and oil and natural gas industry (2016). EPA also approved negative declaration for non-CTG major sources.
Post-1990 CTGs not incorporated into Wisconsin Administrative Code | Chicago-Naperville, IL-IN-WI | 12/1/2020 | 3/1/2022, 87 FR 11310 | Includes: shipbuilding and ship repair (1996), aerospace manufacturing (1997), fiberglass boat manufacturing (2008), miscellaneous industrial adhesives (2008), miscellaneous metal and plastic parts coatings (2008), automobile and light-duty truck assembly coatings (2008), and oil and natural gas industry (2016).
Emission Inventories
Ozone NAAQS (1997) | Door, Kewaunee, Manitowoc, Milwaukee-Racine, Sheboygan and Walworth Areas | 1/15/1993 | 6/15/1994, 59 FR 30702 | 1990 base year emissions inventories for Door, Kenosha, Kewaunee, Manitowoc, Milwaukee, Ozaukee, Racine, Sheboygan, Walworth, Washington, and Waukesha Counties.
Ozone NAAQS (1997) | Milwaukee-Racine | 1/28/2003, 2/5/2003 and 2/27/2003 | 4/17/2003, 68 FR 18883 | 1999 periodic emissions inventory for Kenosha, Milwaukee, Ozaukee, Racine, Washington, and Waukesha Counties.
Ozone NAAQS (1997) | Manitowoc and Door Counties | 6/12/2007 and 9/11/2009 | 7/12/2010, 75 FR 39635 | 2005 base year emissions inventories.
Ozone NAAQS (1997) | Milwaukee-Racine and Sheboygan | 9/11/2009, 11/16/2011 | 7/31/2012, 77 FR 45252 | 2005 base year emissions inventories for Kenosha, Milwaukee, Ozaukee, Racine, Sheboygan, Washington, and Waukesha Counties.
Ozone NAAQS (2008) | Chicago-Naperville, IL-IN-WI and Sheboygan County | 11/14/2014 | 3/7/2016, 81 FR 11673 | Includes Kenosha County (part), Inland and Shoreline Sheboygan Counties.
Ozone NAAQS (2015) | Manitowoc County | 10/29/2021 | 3/31/2022, 87 FR 18702 | 2017 base year emissions inventory.
Ozone NAAQS (2015) | Door County-Revised (part) | 1/5/2022 | 4/29/2022, 87 FR 25410 | 2014 base year emissions inventory.
PM2.5 NAAQS (2006) | Milwaukee-Racine, WI | 6/8/2012 and 5/30/2013 | 4/22/2014, 79 FR 22417 | Milwaukee, Racine and Waukesha Counties.
Site-Specific SO2 Emission Limits
Jacob Leinenkugel Brewing Company |  | 9/29/1986 | 5/21/1993, 58 FR 29537 | AO 86-609037440-N01 Limiting the emissions and operation of Boiler #20 at the facility in Chippewa Falls, Chippewa County, Wisconsin.
Rock Road of Wisconsin |  | 9/29/1986 | 5/21/1993, 58 FR 29537 | AO 86-999019320-J01 Limiting the emissions and operation of fuel burning equipment at the facility in Janesville, Rock County, Wisconsin.
Visibility Protection
Regional Haze Plan | Statewide | 1/18/2012 and 6/7/2012 | 8/7/2012, 77 FR 46952 | First implementation period.
Regional Haze Five-Year Progress Report | Statewide | 3/17/2017 | 6/15/2018, 83 FR 27912 | First implementation period.
Regional Haze Plan | Statewide | 7/30/2021 | 11/19/2024, 89 FR 91269 | Second implementation period.

4. Newly redesignated § 52.2594 is amended by revising the section heading and paragraph (a) to read as follows:

§ 52.2594 Original identification of plan section.

(a) This section identified the original “Air Quality Implementation Plan for the State of Wisconsin” and all revisions submitted by Wisconsin that were federally-approved prior to December 31, 2024.

* * * * *

[FR Doc. 2025-06618 Filed 4-21-25; 8:45 am]

BILLING CODE 6560-50-P